DEPARTMENT OF HOMELAND SECURITY

Coast Guard

46 CFR Parts 30 and 150

[Docket No. USCG-2022-0327]

RIN 1625-AC73

2022 Liquid Chemical Categorization Updates

AGENCY: Coast Guard, DHS.

ACTION: Notice of proposed rulemaking.

SUMMARY: The Coast Guard is proposing to align the Liquid Chemical Categorization tables with the 2020 Edition of the International Code for the Construction and Equipment of Ships Carrying Dangerous Chemicals in Bulk and the International Maritime Organization's Marine Environment Protection Committee's Circular 25. The updated tables would provide a list of the liquid hazardous materials and liquefied and compressed gases approved for international and domestic maritime transportation, and indicate how each substance is categorized by its pollution potential, safe carriage requirements, chemical flammability, combustibility, and compatibility with other substances. This proposed rule would impose no additional costs to chemical shippers or vessel owners.

DATES: Comments and related material must be received by the Coast Guard on or before December 21, 2022.

ADDRESSES: You may submit comments identified by docket number USCG-2022-0327 using the Federal eRulemaking Portal at https://www.regulations.gov. See the “Public Participation and Request for Comments” portion of the SUPPLEMENTARY INFORMATION section for further instructions on submitting comments.

FOR FURTHER INFORMATION CONTACT: For information about this document call or email Dr. Raghunath Halder, U.S. Coast Guard Hazardous Materials Division (CG-ENG-5); telephone 202-372-1422, email Raghunath.Halder@uscg.mil, or Lieutenant Commander Daniel Velez, CG-ENG-5; telephone 202-372-1419, email Daniel.Velez@uscg.mil.

SUPPLEMENTARY INFORMATION:

Table of Contents for Preamble

I. Public Participation and Request for Comments

II. Abbreviations

III. Basis and Purpose

IV. Background

V. Discussion of Proposed Rule

VI. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Public Participation and Request for Comments

The Coast Guard views public participation as essential to effective rulemaking, and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2022-0327 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. This web page also explains how to subscribe for email alerts that will notify you when comments are posted or if a final rule is published. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

We do not plan to hold a public meeting but we will consider doing so if we determine from public comments that a meeting would be helpful. We would issue a separate Federal Register notice to announce the date, time, and location of such a meeting.

II. Abbreviations

CAS RN CAS Registry Number

CFR Code of Federal Regulations

CG-ENG-5 U.S. Coast Guard Hazardous Materials Division

DHS Department of Homeland Security

FR Federal Register

IBC Code International Code for the Construction and Equipment of Ships Carrying Dangerous Chemicals in Bulk

LCC Liquid Chemical Categorization

IMO International Maritime Organization

MEPC International Maritime Organization's Marine Environment Protection Committee

MEPC.2/Circ.25 MEPC Resolution number 2, Circular 25, dated December 1, 2019

NPRM Notice of proposed rulemaking

OMB Office of Management and Budget

§ Section

U.S.C. United States Code

III. Basis and Purpose

The Coast Guard is tasked by Congress with promulgating regulations to improve the shipping practices in the United States. In order to improve the safety in the shipping and handling of hazardous liquid chemicals, since 1983 the Coast Guard has published tables and lists of chemicals that are safe to ship together, and others that are incompatible for co-storage or shipping.

The legal basis of this rulemaking is title 46 of the United States Code (U.S.C.), Section 3703, which requires the Secretary of the department in which the Coast Guard is operating to prescribe regulations relating to the operation of vessels that carry liquid bulk dangerous cargoes, and to the types and grades of cargo those vessels carry. Additional regulatory authority is provided by 33 U.S.C. 1903 (Administration and enforcement, regulations to implement the International Convention for the Prevention of Pollution from Ships, 1973, or “MARPOL”), 46 U.S.C. 2103 (Superintendence of the merchant marine, general merchant marine regulatory authority), and 46 U.S.C. 3306 (Regulations, regulations for the safety of individuals and property on inspected vessels). The Secretary's authority under these statutes is delegated to the Coast Guard in the Department of Homeland Security (DHS) Delegation 00170.1, Revision No. 01.2, paragraphs (II)(92)(a) and 92(b).

The purpose of this rulemaking is to provide additions and updates to those regulatory tables that list liquid hazardous materials, liquefied gases, and compressed gases that have been approved for maritime transportation in bulk, and to indicate how each cargo is categorized by its pollution risk and safe carriage requirements.

IV. Background

Each December, the International Maritime Organization's (IMO) Marine Environment Protection Committee (MEPC) releases an annual circular that lists cargoes for which it has completed a multi-year review. A cargo is listed in the circular if a tripartite agreement approves it for international bulk maritime transportation and the MEPC validates the approval. The International Code for the Construction and Equipment of Ships Carrying Dangerous Chemicals in Bulk (IBC Code) is periodically revised by parties to the IBC Code to include the cargoes listed in the MEPC annual circulars as of the last edition of the Code.

The Coast Guard, as the administrator of regulations that control liquid chemical shipping practices, has endeavored to update these regulations in order to keep the CFR aligned with international standards. The last time the Coast Guard updated these regulations was in an April 17, 2020 final rule entitled 2013 Liquid Chemical Categorization Updates (85 FR 21660).¹ This proposed rulemaking is the next in a planned series of rulemakings that will periodically update the Code of Federal Regulations (CFR) to align with the latest updates of the IBC Code. The Coast Guard is proposing to align the Liquid Chemical Categorization tables with the 2020 Edition of the International Code for the Construction and Equipment of Ships Carrying Dangerous Chemicals in Bulk and the International Maritime Organization's Marine Environment Protection Committee's Circular 25, dated December 1, 2019 and entered into force January 1, 2021.

¹ The Coast Guard corrected minor typographical errors in a correcting amendments document effective May 18, 2020 and entitled 2013 Liquid Chemical Categorization Updates; Correction (85 FR 27308). The Coast Guard corrected additional minor errors in a correcting amendments document effective August 5, 2021 and entitled 2013 Liquid Chemical Categorization Updates (86 FR 42738).

V. Discussion of Proposed Rule

Coast Guard regulations in 46 CFR subchapters D (Tank vessels, parts 30 through 40) and O (Certain bulk dangerous cargoes, parts 150 through 155) contain requirements for ensuring the safe maritime carriage (transportation) of certain bulk liquid cargoes. Tables in subchapters D and O list the cargoes that have been approved for maritime carriage. The tables also categorize each cargo's pollution-hazard risk and safe carriage requirements. The categories are developed in the course of the Coast Guard's and the IMO's assessment and review processes, which are described in the following paragraphs. This information is of value to vessel owners and operators, and to shippers of the cargoes involved.

The proposed rule would update these tables to include new chemicals that have been developed by industry and assessed by the IMO between January 1, 2014 and January 1, 2021. In addition, the proposed rule would bring 46 CFR subchapters D and O into closer conformity with the IBC Code.

Agencies responsible for administering international treaties must agree on the new cargo's assessment before the cargo can be approved for transportation. This is done by a “tripartite agreement” entered into by the administrations of the exporting country, the importing country, and the country in which the ship that will carry the cargo is registered. The tripartite agreement categorizes the cargo's pollution-hazard risk, flammability, and combustibility in accordance with the IBC Code. A copy of the tripartite agreement is forwarded to the MEPC and to the administration of every country that is signatory to the IBC Code.

The Coast Guard is unique among IBC Code-signatory administrations because, in addition to the categorizations contained in the tripartite agreement, it also assigns each cargo to a “compatibility group.” This grouping guides IBC signatories and shippers in determining which cargoes cannot safely be shipped with other cargoes in adjacent tanks, without special precautions. The compatibility groupings are informed by chemical analyses and test data submitted by manufacturers.

Upon receipt of a tripartite agreement, the MEPC conducts its own multi-year review and assessment of the information contained in the tripartite agreement, and, following that review, either validates or modifies the agreement's information. Our tables also reflect any modifications resulting from this IMO assessment.

Each December, the MEPC releases a circular listing each new cargo for which it has completed its review of the cargo's tripartite agreement. The circular lists the countries that have approved international maritime transportation of each new cargo, and provides information about each cargo's pollution-hazard risk and flammability and combustibility. Thus, if a tripartite agreement has approved a cargo for international bulk maritime transportation and the MEPC validates or modifies that information, eventually it will be listed in the MEPC circular. Periodically, the IBC Code is revised to incorporate the cargoes listed in the MEPC's annual circulars since the last edition of the IBC Code.

This proposed rule is designed to bring the following tables in 46 CFR into conformity with the 2020 Edition of the IBC Code and IMO Resolutions MSC.460(101) and MEPC.318(74) issued on June 14 and May 17, 2019, respectively:

• Table 30.25-1, List of Flammable and Combustible Bulk Liquid Cargoes;

• Table 1 to part 150, Alphabetical List of Cargoes, in subchapter O;

• Table 2 to part 150, Grouping of Cargoes, in subchapter O; and

• Appendix I to part 150, Exceptions to the Chart, in subchapter O.

Table 30.25-1 lists flammable or combustible cargoes that, when transported in bulk, must be certificated under subchapter D regulations. We propose to add chemicals contained in Table 1 to part 150 that are flammable or combustible.

Table 1 to part 150 is a comprehensive table that includes all the cargoes that are subject to the regulations in subchapter D. It lists these cargoes alphabetically and lists the chemical compatibility group number assigned to each cargo. We propose to include cargoes that have been approved for shipping by the IBC Code and MEPC Resolution number 2, Circular 25, dated December 1, 2019 (MEPC.2/Circ.25).

Table 2 to part 150 contains the proper shipping names of all the cargoes listed in Table 1, sorted by chemical compatibility group numbers instead of listed alphabetically. We propose to align Table 2 with Table 1 to part 150 and include cargoes that have been approved for shipping by the IBC Code and MEPC.2/Circ.25.

Appendix I to part 150 contains cargoes listed in Tables 1 and 2 to part 150 that have positive chemical compatibility exceptions. To illustrate, consider the following: cargoes in group X and cargoes in group Y are generally incompatible for co-shipping. However, there is one cargo in group X and one cargo in group Y that, for whatever reason, can be shipped together safely. This is an example of a positive chemical compatibility exception, and it would be listed in Appendix I so that stakeholders can maximize the efficiency of their shipping practices. We propose to update Appendix I to include cargoes from Tables 1 and 2 that have such positive exceptions.

To further illustrate how the chemical categorization tables work together: Appendix II to part 150 contains cargoes listed in Tables 1 and 2 that have negative chemical compatibility exceptions. Even if cargoes from hypothetical group X and group Y are generally compatible for co-shipping, there may be a particular chemical in group X that, when stored with a particular chemical from group Y, can react dangerously. This is an example of a negative chemical compatibility exception, and would be listed in Appendix II so that stakeholders can be sure to ship such cargoes safely. We propose no new changes to Appendix II to part 150.

In addition to the introduction of new chemicals into these tables, the Coast Guard proposes adding a new column to Table 1 of part 150 that will contain a CAS Registry Number. CAS, a division of the non-profit American Chemical Society, designed the CAS Registry to prevent the frustration, delays, and safety concerns that can come with a convoluted system of identifying chemicals. A CAS Registry Number (RN) is a unique and unambiguous identifier for a specific substance that allows clear communication and links together all available data and research about that substance. Government agencies rely on CAS RNs for substance identification in regulatory applications because they are unique, easily validated, and internationally recognized. The addition of CAS RNs would make it easier to use the information, leading to safer shipping practices.

The proposed rule will also revise the authority citation to 46 CFR part 150 so that it will no longer cite to 44 U.S.C. 3507. This was done because that statute dictates the manner in which the Coast Guard can issue collections of information, rather than delegating authority to edit the CFR.

The Coast Guard considered proposing the removal of the CHRIS codes from the liquid chemical categorization tables. While we decided not to propose such a removal in this proposed rule, the Coast Guard would be interested in any public comments on the utility of CHRIS codes.

VI. Regulatory Analyses

We developed this proposed rule after considering numerous statutes and Executive orders related to rulemaking. A summary of our analyses based on these statutes and Executive orders follows.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility.

The Office of Management and Budget (OMB) has not designated this proposed rule a significant regulatory action under section 3(f) of Executive Order 12866. A regulatory analysis follows.

Summary of Impacts of the Notice of Proposed Rulemaking (NPRM)

In this NPRM, the Coast Guard proposes incorporating information from MEPC.2/Circ.25 into the tables of subchapters D and O to conform the tables to these international standards. In subchapter D, we propose revising table 30.25-1; in subchapter O, we propose revising tables 1 and 2 and Appendix I to part 150. A summary of the impacts from the NPRM follows.

Category | Summary
Applicability | Revise Table 30.25-1 in subchapter D, and Tables 1 and 2 and Appendix I to part 150 in subchapter O to align with the IBC Code and MEPC.2/Circ.25.
Affected Population | All U.S.- and foreign-flagged tank vessels when in U.S. waters.
Costs to Industry | No estimated costs to private industry.
Costs to the Federal Government | No estimated costs to the Federal Government.
Qualitative Benefits | Creates consistency with current international standards by incorporating the changes to the IBC Code.
| Reduces confusion by clarifying regulatory requirements and makes the updated chemical information easier to use.

Affected Population

This proposed rule updates the Liquid Chemical Categorization (LCC) tables that list the names, pollution risk categorization, safe carriage requirements, chemical flammability, combustibility, and chemical compatibility of each hazardous liquid chemical that has been categorized and approved for maritime transportation in bulk by the IMO and the Coast Guard. In this proposed rule, the Coast Guard is making no new decisions about whether any specific liquid bulk dangerous cargo should be approved for maritime transportation, about how any specific cargo should be categorized, or about carriage requirements that should apply to any specific cargo. The rule would provide updated information about cargoes that are currently approved for maritime transportation in bulk, and the cargo's pollution categorization and minimum transportation safety requirements. The rule would also add a column to Table 1 of part 150 containing the applicable CAS RNs. This proposed rule would apply to the carriage of the cargoes from the tank vessel population described in 46 CFR 30.01-5, 150.110 (with exceptions outlined in 46 U.S.C. 3702), 153.1, and 154.5. All U.S.- and foreign-flagged tank vessels are included, unless exempted by 46 CFR 30.01-5 or 46 CFR 153.1. This proposed rule would also apply to U.S.- and foreign-flagged self-propelled bulk cargo-carrying vessels when in U.S. waters. Foreign tank vessels are exempt from this proposed regulation when on innocent passage through U.S. waters.

Costs

This proposed rule would update the tables to reflect decisions already made under international law regarding which liquid chemical substances are approved for bulk maritime transportation, and how those substances should be categorized with respect to their pollution risk. The Coast Guard already applies these standards when assessing ad hoc domestic carriage requests for bulk liquid chemicals. Vessel owners and shippers would have to comply with these standards to receive Coast Guard approval for carriage. Industry is aware of this procedure, and we believe that shippers already comply with these standards. Therefore, the Coast Guard does not expect that this proposed rule would change established shipping requirements or current practices among chemical shippers. No additional labor or equipment will be required because of this rule. As a result, we expect that there will be no incremental private sector costs to chemical shippers or vessel owners. Further, we do not anticipate that the proposed rule would impose any costs on the Coast Guard. This proposed rule incorporates the Coast Guard's compatibility categorizations, as well as chemical cargoes and categorizations listed in IMO's 2021 IBC Code amendments and MEPC.2/Circ.25.

Benefits

The proposed rule would provide qualitative benefits by conforming regulatory language to practices currently allowed by the Coast Guard, either through individual letters of approval from the Hazardous Materials Division (CG-ENG-5) or the IBC Code. In updating the LCC tables, the Coast Guard would align the domestic shipping requirements for liquid bulk dangerous cargoes with current international standards. Coast Guard expects this proposed rule to serve the public through greater clarity regarding the regulatory requirements in the LCC tables and through easier use of chemical safety information. This proposed rule would codify existing practices which would decrease confusion as to what are the regulatory requirements in the LCC tables.

B. Small Entities

Under the Regulatory Flexibility Act, 5 U.S.C. 601-612, we have considered whether this proposed rule would have a significant economic impact on a substantial number of small entities. The term “small entities” comprises small businesses, not-for-profit organizations that are independently owned and operated and are not dominant in their fields, and governmental jurisdictions with populations of less than 50,000.

There are no small shippers engaged in the transport of the LCC chemicals. In addition, the proposed rule does not impose economic costs on the regulated public. The Coast Guard does not expect that small entities would incur any incremental costs; therefore, the Coast Guard finds that there is not a substantial number of small entities nor a significant economic impact.

The Coast Guard certifies under 5 U.S.C. 605(b) that this proposed rule would not have a significant economic impact on a substantial number of small entities. If you think that your business, organization, or governmental jurisdiction qualifies as a small entity and that this proposed rule would have a significant economic impact on it, please submit a comment to the docket at the address listed in the ADDRESSES section of this preamble. In your comment, explain why you think it qualifies and how and to what degree this proposed rule would economically affect it.

C. Assistance for Small Entities

Under section 213(a) of the Small Business Regulatory Enforcement Fairness Act of 1996, Public Law 104-121, we want to assist small entities in understanding this proposed rule so that they can better evaluate its effects on them and participate in the rulemaking. If the proposed rule would affect your small business, organization, or governmental jurisdiction and you have questions concerning its provisions or options for compliance, please call or email the person in the FOR FURTHER INFORMATION CONTACT section of this proposed rule. The Coast Guard will not retaliate against small entities that question or complain about this proposed rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for no new or revised collection of information under the Paperwork Reduction Act of 1995, 44 U.S.C. 3501-3520. This proposed rule simply would update and revise tables that list cargoes that have been approved and categorized for bulk maritime transportation, which does not involve information collection.

E. Federalism

A rule has implications for federalism under Executive Order 13132 (Federalism) if it has a substantial direct effect on States, on the relationship between the National Government and the States, or on the distribution of power and responsibilities among the various levels of government. We have analyzed this proposed rule under Executive Order 13132 and have determined that it is consistent with the fundamental federalism principles and preemption requirements described in Executive Order 13132. Our analysis follows.

It is well settled that States may not regulate in categories reserved for regulation by the Coast Guard. It is also well settled that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. See United States v. Locke, 529 U.S. 89, 120 S.Ct. 1135 (2000). This proposed rule would amend existing regulations for inspected tank vessels carrying certain bulk dangerous cargoes. These cargoes fall within the categories in 46 U.S.C. 3703 and within fields in which the States are foreclosed from regulating. Therefore, because the States may not regulate within these categories, this rule is consistent with the fundamental federalism principles and preemption requirements described in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this proposed rule would have implications for federalism under Executive Order 13132, please call or email the person listed in the FOR FURTHER INFORMATION CONTACT section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the effects of this proposed rule elsewhere in this preamble.

G. Taking of Private Property

This proposed rule would not cause a taking of private property or otherwise have taking implications under Executive Order 12630 (Governmental Actions and Interference with Constitutionally Protected Property Rights).

H. Civil Justice Reform

This proposed rule meets applicable standards in sections 3(a) and 3(b)(2) of Executive Order 12988, (Civil Justice Reform), to minimize litigation, eliminate ambiguity, and reduce burden.

I. Protection of Children

We have analyzed this proposed rule under Executive Order 13045 (Protection of Children from Environmental Health Risks and Safety Risks). This proposed rule is not an economically significant rule and would not create an environmental risk to health or risk to safety that might disproportionately affect children.

J. Indian Tribal Governments

This proposed rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this proposed rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. It is based on international standards that were developed using consensus standards development processes.

M. Environment

We have analyzed this proposed rule under Department of Homeland Security Management Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. A preliminary Record of Environmental Consideration supporting this determination is available in the docket. For instructions on locating the docket, see the ADDRESSES section of this preamble.

This proposed rule would be categorically excluded under paragraphs L54 and L58 of Appendix A, Table 1 of DHS Instruction Manual 023-01-001-01, Rev. 1.² Paragraph L54 pertains to promulgation of regulations that are editorial or procedural; paragraph L58 pertains to regulations concerning equipment approval and carriage requirements. This proposed rule involves updates to the LCC tables in order to align them with the 2021 IBC Code amendments and MEPC.2/Circ.25. These tables provide a list of liquid hazardous material and liquefied and compressed gases that are approved for international and domestic maritime transportation, and indicate how each substance is categorized by its pollution potential, safe carriage requirements, chemical flammability, combustibility, and compatibility with other substances. All of these changes are consistent with the Coast Guard's maritime safety and stewardship missions. We seek any comments or information that may lead to the discovery of a significant environmental impact from this proposed rule.

² https://www.dhs.gov/sites/default/files/publications/DHS_Instruction%20Manual%20023-01-001-01%20Rev%2001_508%20Admin%20Rev.pdf.

List of Subjects

46 CFR Part 30

Cargo vessels, Foreign relations, Hazardous materials transportation, Penalties, Reporting and recordkeeping requirements, Seamen.

46 CFR Part 150

Hazardous materials transportation, Marine safety, Occupational safety and health, Reporting and recordkeeping requirements.

For the reasons discussed in the preamble, the Coast Guard is proposing to amend 46 CFR parts 30 and 150 as follows:

PART 30—GENERAL PROVISIONS

1. The authority citation for part 30 is revised to read as follows:

Authority: 46 U.S.C. 2103, 3306, 3703; DHS Delegation 00170.1, Revision No. 01.2, paragraph (II)(92)(a), 92(b).

2. In § 30.25-1, amend Table 30.25-1 as follows:

a. After the entry for “Alcohol (C9‐C11) poly(2.5‐9) ethoxylate”, add an entry for “Alcohol (C10‐C18) poly (7) ethoxylates”;

b. After the entry for “Alkylbenzene sulfonic (alternately sulphonic) acid (4% or less)”, add, in alphanumeric order, the entries, “Alkylbenzenes mixtures (containing naphthalene)” and “Alkyl/cyclo (C4‐C5) alcohols”;

c. After the entry for “Alkyl phenol sulfide (alternately sulphide) (C8‐C40), see Alkyl (C8‐C40) phenol sulfide (alternately sulphide)”, add, in alphanumeric order, the entries, “Alkylphenols (C10‐C18, C12 rich)” and “Alkyl (C10‐C15, C12 rich) phenol poly (4‐12) ethoxylate”;

d. After the entry for “Cottonseed oil, fatty acid”, add an entry for “Cresol/Phenol/Xylenol mixture”;

e. After the entry for “Cyclohexane”, add an entry for “Cyclohexane-1, 2-dicarboxylic acid, diisononyl ester”;

f. After the entry for “Dodecene (all isomers)”, add an entry for “1-Dodecene”;

g. After the entry for “Dodecyl hydroxypropyl sulfide (alternately sulphide)”, add an entry for “n-Dodecyl mercaptan”;

h. After the entry for “Ethylene glycol phenyl ether/Diethylene glycol phenyl ether mixture”, add, in alphanumeric order, the entries, “Ethylene glycol (>75%)/Sodium alkyl carboxylates/borax mixture” and “Ethylene glycol (>85%)/Sodium alkyl carboxylates mixture”;

i. After the entry for “Gasoline (Natural gas condensate”, add an entry for “Glucitol/Glycerol blend propoxylated (containing less than 10% amines)”;

j. Remove the entry for “Glucitol/glycerol blend propoxylated (containing 10% or more amines)” and, in its place, add an entry for “Glucitol/Glycerol blend propoxylated (containing 10% or more amines)”;

k. After the entry for “Hexaethylene glycol, see Polyethylene glycol”, add an entry for “Hexahydro-1,3,5-trimethyl-1,3,5-triazine solution (45% or less)”;

l. After the entry for ” Long-chain alkylphenate/Phenol sulfide (alternately sulphide) mixture”, add, in alphanumeric order, the entries, “Long-chain alkylphenol (C14‐C18)” and “Long-chain alkylphenol (C18‐C30)”;

m. After the entry for “Naphthenic acid “, add an entry for “Naphthalene crude (molten)”;

n. After the entry for “Octyl phthalate, see Dioctyl phthalate”, add, in alphanumeric order, the entries for “Offshore contaminated bulk liquid P”; and “Offshore contaminated bulk liquid S”;

o. Add an entry for “Oil, misc.:”, and, in alphanumeric order, add the subentries, “Used cooking oil” and “Used cooking oil (triglycerides, C16‐C18 and C18 unsaturated)”;

p. After the entry for “Polyolefin amide alkeneamine polyol”, add an entry for “Polyolefin amine (C17+)”;

q. After the entry for “Raisin seed oil”, add an entry for “Rapeseed acid oil”;

r. After the entry for “Rapeseed oil fatty acid methyl esters”, remove the entry for “Rape seed oil fatty acid methyl esters*”;

s. After the entry for “Undecylbenzene, see Alkyl (C9+) benzenes”, add an entry for “Vegetable acid oils, n.o.s.” and a subentry for “Vegetable oil mixtures, containing less than 15% free fatty acid”; and

t. Under the entry for “Waxes”, add, in alphanumeric order, a subentry for “Hydrocarbon”.

The additions read as follows:

§ 30.25-1 Cargoes carried in vessels certificated under the rules of this subchapter

* * * * *

Table 30.25-1—List of Flammable and Combustible Bulk Liquid Cargoes
[See NOTES at the end of this table for an explanation of symbols and terms used in this table. See Table 2, 46 CFR part 153, for additional cargoes that may be carried by a tank barge.]
Cargo name | IMO Annex II pollution category
* * * * * * *
Alcohol (C10‐C18) poly (7) ethoxylates | Y
* * * * * * *
Alkylbenzenes mixtures (containing naphthalene) | X
Alkyl/cyclo (C4‐C5) alcohols | Y
* * * * * * *
Alkylphenols (C10‐C18, C12 rich); | Y
Alkyl (C10‐C15, C12 rich) phenol poly (4‐12)ethoxylate | Y
* * * * * * *
Cresol/Phenol/Xylenol mixture | Y
* * * * * * *
Cyclohexane-1,2-dicarboxylic acid, diisononyl ester | Y
* * * * * * *
1-Dodecene | Y
* * * * * * *
n-Dodecyl mercaptan | X
* * * * * * *
Ethylene glycol (>75%)/Sodium alkyl carboxylates/borax mixture | Y
Ethylene glycol (>85%)/Sodium alkyl carboxylates mixture | Z
* * * * * * *
Glucitol/Glycerol blend propoxylated (containing less than 10% amines) | Y
Glucitol/Glycerol blend propoxylated (containing 10% or more amines) | Z
* * * * * * *
Hexahydro-1,3,5-trimethyl-1,3,5-triazine solution (45% or less) | Y
* * * * * * *
Long-chain alkylphenol (C14‐C18) | Y
Long-chain alkylphenol (C18‐C30) | Y
* * * * * * *
Naphthalene crude (molten) | Y
* * * * * * *
Offshore contaminated bulk liquid P | X
Offshore contaminated bulk liquid S | X
* * * * * * *
Oil, misc.:
Used cooking oil | X
Used cooking oil (triglycerides, C16‐C18 and C18 unsaturated) | Y
* * * * * * *
Polyolefin amine (C17+) | Y
* * * * * * *
Rapeseed acid oil | #
* * * * * * *
Vegetable acid oils, n.o.s.
Vegetable oil mixtures, containing less than 15% free fatty acid (m) | Y
* * * * * * *
Waxes:
* * * * * * *
Hydrocarbon | Y
* * * * * * *

PART 150—COMPATIBILITY OF CARGOES

3. The authority citation for part 150 is revised to read as follows:

Authority: 46 U.S.C. 3306, 3703; DHS Delegation No. 00170.1; Revision No. 01.2, paragraph (II), 92(b).

4. Revise Table 1 to part 150 to read as follows:

Table 1 to Part 150—Alphabetical List of Cargoes
Chemical name | Group No. | Footnote | CAS No. | CHRIS code | Related CHRIS codes
Acetaldehyde | 19 |  | 75-07-0 | AAD
Acetic acid | 4 | 2 | 64-19-7 | AAC
Acetic anhydride | 11 | 2 | 108-24-7 | ACA
Acetochlor | 10 |  | 34256-82-1 | ACG
Acetone | 18 | 2 | 67-64-1 | ACT
Acetone cyanohydrin | 0 | 1, 2 | 75-86-5 | ACY
Acetonitrile | 37 |  | 75-05-8 | ATN
Acetonitrile (low purity grade) | 37 | 3 | 75-05-8 | AIL
Acetophenone | 18 |  | 98-86-2 | ACP
Acid oil mixture from soyabean, corn (maize) and sunflower oil refining, see Oil, misc.: Acid mixture from soyabean, corn (maize), and sunflower oil refining |  | 3 |  |  | AOM.
Acrolein | 19 | 2 | 107-02-8 | ARL
Acrylamide solution (50% or less) | 10 | 3 | 79-06-1 | AAM | AAO.
Acrylic acid | 4 | 2 | 79-10-7 | ACR
Acrylic acid/ethenesulfonic (alternately ethenesulphonic) acid copolymer with phosphonate groups, sodium salt solution | 30 | 3 |  | APG
Acrylonitrile | 15 | 2 | 107-13-1 | ACN
Acrylonitrile-Styrene copolymer dispersion in Polyether polyol | 20 |  | 9003-54-7 | ALE
Adiponitrile | 37 |  | 111-69-3 | ADN
Alachlor technical (90% or more) | 33 | 3 | 15972-60-8 | ALH | ALI.
Alcohol (C12-C13, branched and linear) poly(4-8) propoxy sulfates (alternately sulphates), sodium salt 25-30% solution | 41 | 3 |  | ABL
Alcohol (C9-C11) poly(2.5-9) ethoxylates | 20 | 3 | * 68439-46-3 | AET | ALY/APV/APW.
Alcohol (C10-C18) poly (7) ethoxylates | 20 |  | 85422-93-1 | ALE | ALY/APV/APW.
Alcohol (C6-C17) (secondary) poly(3-6) ethoxylates | 20 | 3 | * 84133-50-6 | AEA | AEB.
Alcohol (C6-C17) (secondary) poly(7-12) ethoxylates | 20 | 3 | * 84133-50-6 | AEB | AEA.
Alcohol (C12-C16) poly(1-6) ethoxylates | 20 | 3 | * 68551-12-2 | AED | AET/ALY/APW.
Alcohol (C12-C16) poly(7-19) ethoxylates | 20 | 3 | * 68551-12-2 | APV | AET/ALY/APV.
Alcohol (C12-C16) poly(20+) ethoxylates | 20 | 3 | * 68551-12-2 | APW | AET/ALY.
Alcohol (C12-C15) poly (. . .) ethoxylate, see Alcohol (C12-C16) poly (. . .) ethoxylate. |  |  | * 68131-39-2
Alcohol polyethoxylates | 20 |  | * 68439-50-9 |  | AEA/AEB/AED/AET/APV/APW.
Alcohol polyethoxylates, secondary | 20 |  | * 84133-50-6 |  | AEA/AEB.
Alcoholic beverages, n.o.s. | 20 | 3 | 64-17-5 | ABV
Alcohols (C12+), primary, linear | 20 | 3 | * 112-53-8 | ASY | ALR/AYK/AYL.
Alcohols (C8-C11), primary, linear, and essentially linear | 20 |  | * 111-87-5 | ALR | AYK/AYL.
Alcohols (C12-C13), primary, linear, and essentially linear | 20 | 3 | * 112-53-8 | AYK | ALR/ASY/AYL.
Alcohols (C14-C18), primary, linear, and essentially linear | 20 | 3 | * 112-72-1 | AYL | ALR/ASY/AYK.
Alcohols (C13+) | 20 |  | * 112-70-9 | ALY | ASY/AYK.
Including:
Cetyl alcohol (Hexadecanol) | 20 |  | 36653-82-4
Oleyl alcohol (Octadecenol) | 20 |  | 112-92-5
Pentadecanol | 20 |  | 629-76-5
Tallow alcohol | 20 |  | 99561-04-3
Tetradecanol | 20 |  | 112-72-1
Tridecanol | 20 |  | 112-70-9
Alkanes (C10-C26), linear and branched (flash point >60 °C) | 31 | 3 | * 124-18-5 | ABD
Alkanes (C10-C26), linear and branched (flash point ≤60 °C) | 31 | 3 | * 124-18-5 | ABE
Alkanes (C6-C9) | 31 |  | * 110-54-3 | ALK
Including:
Heptanes | 31 |  | 142-82-5
Hexanes | 31 |  | 110-54-3
Nonanes | 31 |  | 111-84-2
Octanes | 31 |  | 111-65-9
iso- & cyclo-Alkanes (C10-C11) | 31 |  | * 34464-38-5 | AKI
iso- & cyclo-Alkanes (C12+) | 31 |  | * 31807-55-3 | AKJ
n-Alkanes (C9-C11) | 31 | 3 | * 111-84-2
n-Alkanes (C10+) (all isomers) | 31 |  | * 124-18-5 | ALV | ALJ.
Including:
Decanes | 31 |  | 124-18-5
Dodecanes | 31 |  | 112-40-3
Heptadecanes | 31 |  | 629-78-7
n-Paraffins (C10-C20) | 31 |  | * 124-18-5 | PFN | ALJ.
Tridecanes | 31 |  | 629-50-5
Undecanes | 31 |  | 1120-21-4
Alkane (C14-C17) sulfonic (alternately sulphonic) acid, sodium salt solutions, see Sodium alkyl (C14-C17) sulfonates (alternately sulphonates) (60-65% solution) |  |  | 85711-69-9 | AKA | SAA (AKE/SSU).
Alkaryl polyethers (C9-C20) | 41 |  |  | AKP
Alkenoic acid, polyhydroxy ester borated | 0 | 1, 3 |  | AAY
Alkenyl (C11+) amide | 10 |  |  | AKM
Alkenyl (C8+) amine, Alkenyl (C12+) acid ester mixture | 34 |  |  | AAA
Alkenyl (C16-C20) succinic anhydride | 11 |  | * 32072-96-1 | AAH
Alkyl acrylate-Vinyl pyridine copolymer in Toluene | 32 |  |  | AAP
Alkyl amine (C17+) | 7 |  | * 4200-95-7 | AKY
Alkylaryl phosphate mixtures (more than 40% Diphenyl tolyl phosphate, less than 0.02% ortho-isomers) | 34 |  | 78-31-9 | ADP
Alkylated (C4-C9) hindered phenols | 21 | 3 | * 98-54-4 | AYO
Alkyl (C3-C4) benzenes | 32 |  | * 103-65-1 | AKC
Including:
Butylbenzenes | 32 | 3 | 104-51-8
Cumene | 32 |  | 98-82-8
Propylbenzenes | 32 |  | 103-65-1
Alkyl (C5-C8) benzenes | 32 |  | * 538-68-1 | AKD
Including:
Amylbenzenes | 32 |  | 538-68-1
Heptylbenzenes | 32 |  | 2132-85-6
Hexylbenzenes | 32 |  | 1077-16-3
Octylbenzenes | 32 |  | 2189-60-8
Alkyl (C9+) benzenes | 32 |  | * 1081-77-2 | AKB
Including:
Decylbenzenes | 32 |  | 104-72-3
Dodecylbenzenes | 32 |  | 29986-57-0
Nonylbenzenes | 32 |  | 1081-77-2
Tetradecylbenzenes | 32 |  | 1459-10-5
Tetrapropylbenzenes | 32 |  | 635-11-0
Tridecylbenzenes | 32 |  | 123-02-4
Undecylbenzenes | 32 |  | 6742-54-7
Alkyl benzene distillation bottoms | 0 | 1, 3 |  | ABB
Alkylbenzene mixtures (containing at least 50% of Toluene) | 32 | 3 | * 108-88-3 | AZT
Alkylbenzenes mixtures (containing naphthalene) | 20 |  |  | ALB | AZT.
Alkylbenzene, Alkylindane, Alkylindene mixture (each C12-C17) | 32 |  |  | AIH
Alkyl (C11-C17) benzene sulfonic (alternately sulphonic) acid | 0 | 1, 3 | * 50854-94-9 | ABN | ABS/ABQ.
Alkylbenzene sulfonic (alternately sulphonic) acid (less than 4%) | 0 | 1, 2 | * 104-15-4 | ABQ | ABS/ABN.
Alkylbenzene sulfonic (alternately sulphonic) acid, sodium salt solution | 33 |  | * 657-84-1 | ABT
Alkyl/cyclo (C4-C5) alcohols | 20 |  |  | AAL
Alkyl (C12+) dimethylamine | 7 | 3 | * 112-18-5 | ADM
Alkyl dithiocarbamate (C19-C35) | 34 | 3 |  | ADB
Alkyl dithiothiadiazole (C6-C24) | 33 |  |  | ADT
Alkyl ester copolymer (C4-C20) | 34 |  |  | AES | AEQ.
Alkyl ester copolymer in mineral oil | 34 |  |  | AEQ | AES.
Alkyl (C7-C9) nitrates | 34 | 2 | * 20633-12-9 | AKN | ONE.
Alkyl (C7-C11) phenol poly(4-12) ethoxylate | 40 |  |  | APN | NPE.
Alkyl (C10-C15, C12 rich) phenol poly (4-12)ethoxylate | 40 |  |  | APX | APN.
Alkyl (C4-C9) phenols | 21 |  | * 1638-22-8 | AYI | BLT/BTP/NNP/OPH.
Alkylphenols (C10-C18, C12 rich) | 21 |  |  | ALP | AYI/DOL.
Alkyl phenol sulfide (alternately sulphide) (C8-C40), see Alkyl (C8-C40) phenol sulfide (alternately sulphide) |  |  |  |  | AKS.
Alkyl (C8-C40) phenol sulfide (alternately sulphide) | 34 |  |  | AKS
Alkyl (C9-C15) phenyl propoxylate | 40 |  | * 9064-15-7 | AXL
Alkyl (C8-C9) phenylamine in aromatic solvents | 9 |  |  | ALP
n-Alkyl phthalates, see individual phthalates |  |  |  | AYS
Alkyl polyglucoside solution, see individual polyglucoside solutions |  |  |  | AGD | AGL/AGM/AGN/AGO/AGP.
Alkyl (C8-C10) polyglucoside solution (65% or less) | 43 | 3 | * 29836-26-8 | AGL | AGD/AGM/AGN/AGO/AGP.
Alkyl (C8-C10)/(C12-C14):(40% or less/60% or more) polyglucoside solution (55% or less) | 43 | 3 | * 29836-26-8 | AGN | AGD/AGL AGM/AGO/AGP.
Alkyl (C8-C10)/(C12-C14):(50%/50%) polyglucoside solution (55% or less) | 43 | 3 | * 29836-26-8 | AGO | AGD/AGL/AGN/AGP.
Alkyl (C8-C10)/(C12-C14):(60% or more/40% or less) polyglucoside solution (55% or less) | 43 | 3 | * 29836-26-8 | AGP | AGD/AGL/AGM/AGN/AGO.
Alkyl (C12-C14) polyglucoside solution (55% or less) | 43 | 3 | * 59122-55-3 | AGM | AGD/AGL/AGN/AGO/AGP.
Alkyl (C12-C16) propoxyamine ethoxylates | 8 | 3 |  | AXE | LPE.
Alkyl (C10-C20), saturated and unsaturated phosphite | 34 |  |  | AKL
Alkyl succinic anhydride | 11 |  | * 4100-80-5 | AUA
Alkyl sulfonic (alternately sulphonic) acid ester of phenol | 34 |  | 91082-17-6 | AKH
Alkyl toluene | 32 |  | * 95-47-6 | AYL | AUS.
Alkyl (C18+) toluenes | 32 | 3 | * 94135-42-9 | AUS | AYL.
Alkyl (C18-C28) toluenesulfonic (alternately toluenesulphonic) acid | 0 | 1, 3 | * 3386-32-1 | AUU
Alkyl (C18-C28) toluenesulfonic (alternately toluenesulphonic) acid, Calcium salts, borated | 34 | 3 |  | AUB
Alkyl (C18-C28) toluenesulfonic (alternately toluenesulphonic) acid, Calcium salts, high overbase | 33 | 3 |  | AUC
Alkyl (C18-C28) toluenesulfonic (alternately toluenesulphonic) acid, Calcium salts, low overbase | 33 | 3 |  | AUL
Allyl alcohol | 15 | 2 | 107-18-6 | ALA
Allyl chloride | 15 |  | 107-05-1 | ALC
Aluminum (alternately, Aluminium) chloride/Hydrochloric acid solution, see “Aluminum (alternately, Aluminium) chloride/Hydrogen chloride solution” |  | 1 |  | AHS | AHG.
Aluminum (alternately Aluminium) chloride/Hydrogen chloride solution | 0 | 1, 3 |  | AHG | AHS.
Aluminum (alternately Aluminium) hydroxide/sodium hydroxide/sodium carbonate solution (40% or less) | 5 | 3 |  | AHN
Aluminum sulfate (alternately Aluminium sulphate) solution | 43 | 2 | 10043-01-3 | ASX | ALM.
Amine C-6, morpholine process residue | 9 |  |  | AOI
Aminoethyldiethanolamine/Aminoethylethanolamine solution | 8 |  |  | ADY
2-(2-Aminoethoxy) ethanol | 8 |  | 929-06-6 | AEX
Aminoethylethanolamine | 8 |  | 111-41-1 | AEE
N-Aminoethylpiperazine | 7 |  | 140-31-8 | AEP
2-Amino-2-hydroxymethyl-1,3-propanediol solution | 43 |  | 77-86-1 | AHL
2-Amino-2-methyl-1-propanol | 8 |  | 124-68-5 | APZ | APQ/APR.
Ammonia, anhydrous | 6 |  | 7664-41-7 | AMA
Ammonia, aqueous (28% or less Ammonia), see Ammonium hydroxide |  |  | 1336-21-6 |  | AMH.
Ammonium bisulfite (alternately bisulphite) solution (70% or less) | 43 | 2 | 10192-30-0 | ABX | ASU.
Ammonium chloride solution (less than 25%) | 43 | 3 | 12125-02-9 | AIS | AMC.
Ammonium hydrogen phosphate solution | 0 | 1 | 7783-28-0 | AMI
Ammonium hydroxide (28% or less Ammonia) | 6 |  | 1336-21-6 | AMH
Ammonium lignosulfonate (alternately lignosulphonate) solution, see also Lignin liquor |  |  | 8061-53-8 | ALG | LNL.
Ammonium nitrate solution (45% or less) | 0 | 1 | 6484-52-2 | AND | AMN/ANR/ANW.
Ammonium nitrate solution (93% or less) | 0 | 1 | 6484-52-2 | ANW | AMN/AND/ANR.
Ammonium nitrate/Urea solution (containing Ammonia), see Urea/Ammonium nitrate solution (containing 1% or more Ammonia) |  |  |  |  | UAS (ANU/UAT/UAU/UAV).
Ammonium nitrate/Urea solution (not containing Ammonia), see Urea/Ammonium nitrate solution (containing less than 1% Ammonia) |  |  |  |  | UAU (ANU/UAS/UAT/UAV).
Ammonium phosphate/Urea solution, see Urea/Ammonium phosphate solution |  |  |  |  | UAP (APP/URE).
Ammonium polyphosphate solution | 43 |  | 68333-79-9 | AMO
Ammonium sulfate (alternately sulphate) solution | 43 |  | 7783-20-2 | ASW | AME/AMS.
Ammonium sulfate (alternately sulphate) solution (20% or less) | 43 |  | 7783-20-2 | AME | AMS/ASW.
Ammonium sulfide (alternately sulphide) solution (45% or less) | 5 | 3 | 12135-76-1 | ASS | ASF.
Ammonium thiocyanate/Ammonium thiosulfate (alternately thiosulphate) solution | 0 | 1 |  | ACV | ACS.
Ammonium thiosulfate (alternately thiosulphate) solution (60% or less) | 43 | 3 | 7783-18-8 | ATV | ATF.
Amyl acetate (all isomers) | 34 | 3 | 628-63-7 | AEC | IAT/AML/AAS/AYA.
Amyl acid phosphate | 34 |  | 12789-46-7 | AIA
Amyl alcohol, primary | 20 | 3 | 71-41-0 | APM | AAI/AAL/AAN/APM/IAA.
n-Amyl alcohol | 20 | 3 | 71-41-0 | AAN | AAI/AAL/APM/ASE/IAA.
sec-Amyl alcohol | 20 | 3 | 584-02-1 | ASE | AAI/AAL/AAN/APM/IAA.
tert-Amyl alcohol | 20 | 3 | 75-85-4 | AAL | AAI/APM/ASE/IAA.
tert-Amyl ethyl ether | 41 |  | 919-94-8 | AER
tert-Amyl methyl ether | 41 |  | 994-05-8 | AYE
Amyl methyl ketone, see Methyl amyl ketone |  |  | 110-43-0 | AMJ | MAK (AMK).
Amylene, see Pentene (all isomers) |  |  | 109-67-1 | AMW | PTX (AMX/AMZ/PTE).
tert-Amylenes, see Pentene (all isomers) |  |  | 513-35-9 | AMZ | PTX (AMW).
Aniline | 9 |  | 62-53-3 | ANL
Animal and Fish oils, n.o.s. | 34 |  |  | AFN
Including:
Cod liver oil | 34 |  | 8001-69-2
Lanolin | 34 |  | 8006-54-0
Neatsfoot oil | 34 |  | 8002-64-0
Pilchard oil | 34
Sperm oil | 34 |  | 8002-24-2
Animal and Fish acid oils and distillates, n.o.s. | 34 |  |  | AFA
Including:
Animal acid oil | 34
Fish acid oil | 34
Lard acid oil | 34
Mixed acid oil | 34
Mixed general acid oil | 34
Mixed hard acid oil | 34
Mixed soft acid oil | 34
Anthracene oil (Coal tar fraction), see Coal tar |  |  | 65996-91-0 | AHO | COR.
Apple juice | 43 |  |  | APJ
Argon, liquefied | 0 | 1 | 7440-37-1 | ARG
Aryl polyolefin (C11-C50) | 30 |  |  | AYF
Asphalt | 33 |  | 8052-42-4 | ASP | ACU.
Asphalt blending stocks, roofers flux | 33 |  |  | ARF
Asphalt blending stocks, straight run residue | 33 |  |  | ASR
Asphalt emulsion | 33 |  |  | ASQ
Asphalt, Kerosene, and other components | 33 |  |  | AKO
Aviation alkylates (C8 paraffins and isoparaffins BPT 95-120 °C) | 33 | 3 | 111-65-9 | AVA | GAK/GAV.
Barium long-chain (C11-C50) alkaryl sulfonate (alternately sulphonate) | 34 |  |  | BCA
Barium long-chain alkyl (C8-C14) phenate sulfide (alternately sulphide) | 34 |  |  | BCH
Behenyl alcohol | 20 |  | 661-19-8 | BHY
Benzene | 32 | 2 | 71-43-2 | BNZ | BHA/BHB/PYG.
Benzene and mixtures having 10% Benzene or more | 32 |  |  | BHB | BHA/BNZ/PYG.
Benzene hydrocarbon mixtures (containing Acetylenes) (having 10% Benzene or more) | 32 |  |  | BHA | BHB/BNZ/PYG.
Benzene/Toluene/Xylene mixtures (having 10% Benzene or more) | 32 |  |  | BTX | BHB/BNZ/PYG/TOL/XLX/XLM/XLO/XLP.
Benzenesulfonyl (alternately Benzenesulphonyl) chloride | 0 | 1, 2 | 98-09-9 | BSC
Benzenetricarboxylic acid, trioctyl ester | 34 |  | 89-04-3 | BCE
Benzyl acetate | 34 |  | 140-11-4 | BZE
Benzyl alcohol | 21 |  | 100-51-6 | BAL
Benzyl chloride | 36 |  | 100-44-7 | BCL
Bio-fuel blends of Diesel/gas oil and Alkanes (C10-C26), linear and branched with a flash point >60 °C (>25% but <99% by volume) | 33 | 3 |  | BIF | BIG/BIH/BII/BIJ/BIK.
Bio-fuel blends of Diesel/gas oil and Alkanes (C10-C26), linear and branched with a flash point ≤60 °C (>25% but <99% by volume) | 33 | 3 |  | BIG | BIF/BIH/BII/BIJ/BIK.
Bio-fuel blends of Diesel/gas oil and FAME (>25% but <99% by volume) | 34 | 3 |  | BIH | BIF/BIG/BII/BIJ/BIK.
Bio-fuel blends of Diesel/gas oil and vegetable oil (>25% but <99% by volume) | 34 | 3 |  | BII | BIF/BIG/BIH/BIJ/BIK.
Bio-fuel blends of Gasoline and Ethyl alcohol (>25% but <99% by volume) | 20 | 2, 3 |  | BIJ | BIF/BIG/BIH/BII/BIK.
Bis (2-ethylhexyl) terephthalate | 34 |  | 6422-86-2 | DHH
Boronated Calcium sulfonate (alternately sulphonate) | 34 |  |  | BCU
Brake fluid base mix: Poly(2-8)alkylene (C2-C3) glycols/Polyalkylene (C2-C10) glycols monoalkyl (C1-C4) ethers and their borate esters | 20 | 3 |  | BFY
Brominated Epoxy Resin in Acetone | 16 |  |  | BER
Bromochloromethane | 36 |  | 74-97-5 | BCM
Butadiene (all isomers) | 30 |  | 106-99-0 | BDI
Butadiene/Butylene mixtures (containing Acetylenes) | 30 |  |  | BBM | BBX/BDI/BTN/IBL.
Butane (all isomers) | 31 |  | 106-97-8 | BMX | IBT/BUT.
Butane/Propane mixture | 31 |  |  | BUP | LPG.
1,4-Butanediol, see Butylene glycol |  |  | 110-63-4 | BDO | BUG.
2-Butanone, see Methyl ethyl ketone |  | 2 | 78-93-3 |  | MEK.
Butene oligomer | 30 |  |  | BOL
Butene, see Butylenes (all isomers) |  |  | 106-98-9 |  | BUT/IBL.
2-Butoxyethanol (58%)/Hyperbranched polyesteramide (42%) (mixture) | 20
Butyl acetate (all isomers) | 34 | 3 | 123-86-4 | BAX | BCN/BTA/BYA/IBA.
Butyl acrylate (all isomers) | 14 | 3 | 141-32-2 | BAR | BAI/BTC.
Butyl alcohol (all isomers) | 20 | 2, 3 | 71-36-3 | BAY | BAN/BAS/BAT/IAL.
Butyl alcohol (iso-, n-, sec-, tert-), see Butyl alcohol (all isomers) |  | 2 | 71-36-3 |  | BAN/BAS/BAT/BAY/IAL.
Butylamine (all isomers) | 7 | 3 | 109-73-9 | BTY | BAM/BTL/BUA/IAM.
Butylbenzene (all isomers), see Alkyl (C3-C4) benzenes |  | 3 | 104-51-8 | BBE | AKC.
Butyl benzyl phthalate | 34 |  | 85-68-7 | BPH
Butyl butyrate (all isomers) | 34 | 3 | 109-21-7 | BBA | BIB/BUB.
Butylene glycol | 20 | 2 | 107-88-0 | BUG | BDO.
1,2-Butylene oxide | 16 |  | 106-88-7 | BTO
Butylenes (all isomers) | 30 |  | 106-98-9 | BTN | IBL.
n-Butyl ether | 41 | 3 | 142-96-1 | BTE
n *-Butyl ether | 41 |  | 142-96-1 | BTE
iso-Butyl formate, see Isobutyl formate |  | 3 | 542-55-2 | BFI | BFN/BFO.
n-Butyl formate | 34 |  | 592-84-7 | BFN | BFI/BFO.
Butyl heptyl ketone | 18 |  | 19780-10-0 | BHK
Butyl methacrylate | 14 |  | 97-88-1 | BMH | BMI/BMN.
Butyl methacrylate, Decyl methacrylate, Cetyl-Eicosyl methacrylate mixture, see Butyl/Decyl/Cetyl/Eicosyl methacrylate mixture |  | 3 |  |  | DER (BMH/BMI/BMN/CEM).
Butyl/Decyl/Cetyl/Eicosyl methacrylate mixture | 14 | 3 |  | DER | BMH/BMI/BMN/CEM.
Butyl methyl ketone, see Methyl butyl ketone |  | 2 | 591-78-6 |  | MBJ (MBK/MIK).
Butyl phenol, Formaldehyde resin in Xylene | 32
n-Butyl propionate | 34 |  | 209-669-5 | BPN
Butyl stearate | 34 |  | 123-95-5 | BST
Butyl toluene | 32 |  | 1595-05-7 | BUE
Butyraldehyde (all isomers) | 19 | 3 | 123-72-8 | BAE | BAD/BTR.
Butyric acid | 4 |  | 107-92-6 | BRA | IBR.
gamma-Butyrolactone | 0 | 1, 2 | 96-48-0 | BLA
C9 Resinfeed (DSM) | 32 | 2 |  | CNR
Calcium alkaryl sulfonate (alternately sulphonate) (C11-C50), see Calcium long-chain alkaryl sulfonate (alternately sulphonate) (C11-C50) |  | 3 |  | CAE | CAY.
Calcium alkyl (C9) phenol sulfide (alternately sulphide), polyolefin phosphorosulfide (alternately phosphorosulphide) mixture | 34 |  |  | CPX.
Calcium alkyl (C10-C28) salicylate | 34 | 3 |  | CAJ.
Calcium bromide solution, see Drilling brines |  |  | 7789-41-5 | CBI | DRB.
Calcium alkyl salicylate, see Calcium long-chain alkyl salicylate (C13 + ), Calcium long-chain alkyl (C18-C28) salicylate, or Calcium alkyl (C10-C28) salicylate | 34 |  |  |  | CAJ/CAK/CAZ.
Calcium bromide solution, see Drilling brines |  |  | 7789-41-5 | CBI | DRB.
Calcium bromide/Zinc bromide solution, see Drilling brine (containing Zinc salts) |  |  |  |  | DZB.
Calcium carbonate slurry | 34 |  | 471-34-1 | CSR
Calcium chloride solution, see Drilling brines |  |  | 10043-52-4 | CCS | CLC.
Calcium hydroxide slurry | 5 |  | 1305-62-0 | COH | CAH.
Calcium hypochlorite solution (15% or less) | 5 | 3 | 7778-54-3 | CHU | CHY/CHZ.
Calcium hypochlorite solution (more than 15%) | 5 | 3 | 7778-54-3 | CHZ | CHU/CHY.
Calcium lignosulfonate (alternately lignosulphonate) solution, see also Lignin liquor |  |  | 8061-52-7 | CLL | LNL.
Calcium long-chain alkaryl sulfonate (alternately sulphonate) (C11-C50) | 34 |  | 722503-69-7 | CAY
Calcium long-chain alkyl (C8-C40) phenate, see Calcium long-chain alkyl (C5-C10) phenate or Calcium long-chain alkyl (C11-C40) phenate |  |  |  | CAQ | CAU/CAV (CAN/CAW).
Calcium long-chain alkyl (C5-C10) phenate | 34 | 3 |  | CAU | CAN/CAQ/CAV/CAW.
Calcium long-chain alkyl (C5-C20) phenate | 34 |  |  | CAV | CAN/CAQ/CAU/CAW.
Calcium long-chain alkyl (C11-C40) phenate | 34 | 3 |  | CAW | CAN/CAQ/CAU/CAV.
Calcium long-chain alkyl phenate sulfide (alternately sulphide) (C8-C40) | 34 |  |  | CPI
Calcium long-chain alkyl phenolic amine (C8-C40) | 9 |  |  | CPQ
Calcium long-chain alkyl (C18-C28) salicylate | 34 | 3 |  | CAJ
Calcium long-chain alkyl salicylate (C13+) | 34 |  |  | CAK | CAJ/CAZ.
Calcium nitrate solutions (50% or less) | 34 | 3 | 10124-37-5 | CNU | CNT.
Calcium nitrate/Magnesium nitrate/Potassium chloride solution | 34 |  |  | CLM | CNT/CNU/MGN/MGO/PCS/PCU/PSD.
Calcium salts of fatty acids | 34 |  | 85251-71-4 | CFF
Calcium stearate | 34 |  | 1592-23-0 | CSE
Calcium sulfonate (alternately sulphonate)/Calcium carbonate/Hydrocarbon solvent mixture | 33 |  |  | CSH
Camelina oil, see Oil, misc.: Camelina |  | 3 | 68956-68-3 | CEL
Camphor oil (light) | 18 |  | 8008-51-3 | CPO
Canola oil, see Oil, edible: Rapeseed (low erucic acid containing less than 4% free fatty acids) |  |  | 120962-03-0 |  | ORO (ORP).
Caprolactam solution, see epsilon-Caprolactam (molten or aqueous solutions) |  |  | 105-60-2 | CLS
epsilon-Caprolactam (molten or aqueous solutions) | 22 | 3 | 105-60-2 | CLU | CLS.
Caramel solutions | 43 |  | 8028-89-5 | CML
Carbolic oil | 21 |  | 108-95-2 | CBO
Carbon dioxide (high purity) | 0 | 1 | 124-38-9 | CDH | CDO/CDQ.
Carbon dioxide (reclaimed quality) | 0 | 1 | 124-38-9 | CDQ | CDH/CDO.
Carbon dioxide, liquefied | 0 | 1 | 124-38-9 | CDO | CDH/CDQ.
Carbon disulfide (alternately disulphide) | 38 |  | 75-15-0 | CBB
Carbon tetrachloride | 36 | 2 | 56-23-5 | CBT | CBU.
Cashew nut shell oil (untreated), see Oil, misc.: Cashew nut shell (untreated) |  |  | 8007-24-7 |  | OCN.
Castor oil, see Oil, edible: Castor | 34 |  | 8001-79-4 |  | OCA (VEO).
Catoxid feedstock | 36 | 2 |  | CXF
Caustic potash solution | 5 | 2 | 1310-58-3 | CPS
Caustic soda solution | 5 | 2 | 1310-73-2 | CSS
Cesium formate solution | 43 | 3 | 3495-36-1 | CSM
Cetyl alcohol (Hexadecanol), see Alcohols (C13+) |  |  | 36653-82-4 |  | ALY (ASY/AYL).
Cetyl alcohol, see Alcohols (C13 + ) | 20 |  | 36653-82-4 |  | ALY (ASY/AYL).
Cetyl/Eicosyl methacrylate mixture | 14 | 1 |  | CEM
Cetyl/Stearyl alcohol, see Alcohols (C13+) |  |  |  |  | ALY (ASY/AYL).
Chlorinated paraffins (C10-C13) | 36 |  | * 1002-69-3 | CLH | CLG/CLJ/CLQ.
Chlorinated paraffins (C14-C17) (with 50% Chlorine or more, and less than 1% C13 or shorter chains) | 36 | 3 |  | CLJ | CLG/CLH/CLQ.
Chlorinated paraffins (C14-C17) (with 52% Chlorine) | 36 |  |  | CLQ | CLG/CLH/CLJ.
Chlorinated paraffins (C18+) with any level of chlorine | 36 |  | * 3386-33-2 | CLG | CLH/CLJ.
Chlorine | 0 | 1 | 7782-50-5 | CLX
Chloroacetic acid (80% or less) | 4 | 3 | 79-11-8 | CHM | CHL/MCA.
Chlorobenzene | 36 | 2 | 108-90-7 | CRB
Chlorodifluoromethane, see Monochlorodifluoromethane |  |  | 75-45-6 | MCF
2-Chloro-4-ethylamino-6-isopropylamino-5-triazine solution | 0 | 1 | 287476-17-9 | CET
1-(4-Chlorophenyl)-4,4-dimethyl pentan-3-one | 18 | 2 | 66346-01-8 | CDP
2- or 3-Chloropropionic acid | 4 |  | 29617-66-1 or 107-94-8 | CPM | CLA/CLP.
Chloroform | 36 |  | 67-66-3 | CRF
Chlorohydrins (crude) | 17 | 3 | * 107-07-3 | CHD
4-Chloro-2-methylphenoxyacetic acid, dimethylamine salt solution | 9 |  |  | CDM
o-Chloronitrobenzene | 42 |  | 88-73-3 | CNO | CNP.
Chlorosulfonic (alternately Chlorosulphonic) acid | 0 | 1 | 7790-94-5 | CSA
m-Chlorotoluene | 36 | 3 | 108-41-8 | CTM | CHI/CRN/CTO.
o-Chlorotoluene | 36 | 3 | 95-49-8 | CTO | CHI/CRN/CTM.
p-Chlorotoluene | 36 | 3 | 106-43-4 | CRN | CHI/CTM/CTO.
Chlorotoluenes (mixed isomers) | 36 | 3 | 25168-05-2 | CHI | CRN/CTM/CTO.
Choline chloride solutions | 20 |  | 67-48-1 | CCO
Citric acid (70% or less) | 4 | 3 | 77-92-9 | CIS | CIT.
Clay slurry | 43 |  | 1332-58-7 | CLY
Coal slurry | 43 |  | 125612-26-2 | COG | COA.
Coal tar | 33 |  | 8007-45-2 | COR | OCT.
Coal tar crude bases | 33 |  | 65996-84-1 | CTB
Coal tar distillate, see Naphtha: Coal tar solvent |  |  | 65996-91-0 | CDL | NCT (CTU).
Coal tar naphtha solvent, see Naphtha: Coal tar solvent |  |  | 65996-91-0 |  | NCT (CDL/CTU).
Coal tar pitch (molten) | 33 | 3 | 65996-93-2 | CTP
Coal tar, high temperature | 33 |  | 65996-89-6 | CHH
Cobalt naphthenate in solvent naphtha | 34 |  | 61789-51-3 | CNS
Cocoa butter, see Oil, edible: Cocoa butter |  |  | 8002-31-1 |  | OCB (VEO).
Coconut oil, see Oil, edible: Coconut |  | 2 | 8001-31-8 |  | OCC (VEO).
Coconut oil, fatty acid, see Oil, misc.: Coconut fatty acid |  | 2 | 61788-47-4 |  | CFA.
Coconut oil, fatty acid methyl ester, see Oil, misc.: Coconut fatty acid methyl ester |  | 3 | 61788-59-8 |  | OCM.
Copper salt of long-chain (C17 + ) alkanoic acid | 34 |  |  | CUS | CFT.
Copper salt of long-chain (C3-C16) fatty acid | 34 |  | * 3112-74-1 | CFT | CUS.
Corn oil, see Oil, edible: Corn |  |  | 8001-30-7 |  | OCO (VEO).
Corn syrup | 43 |  | 8029-43-4 | CSY
Cottonseed oil, see Oil, edible: Cottonseed |  |  | 8001-29-4 |  | OCS (VEO).
Cottonseed oil, fatty acid, see Oil, misc.: Cottonseed oil, fatty acid |  |  | 68308-51-0 | CFY
Creosote | 21 | 2 |  | CCW | CCT/CWD.
Creosote (coal tar) | 21 | 2, 3 | 8001-58-9 | CCT | CCW.
Creosote (wood tar) | 21 | 2, 3 | 8021-39-4 | CWD | CCT/CCW.
Cresol/Phenol/Xylenol mixture | 21 |  |  | CXX
Cresols (all isomers) | 21 | 3 | 1319-77-3 | CRS | CFO/CFP/CRL/CRO/CSC/CSO.
Cresols with 5% or more Phenol, see Phenol |  |  |  | CFP | PHN (CFO/CRL/CRO/CRS/CSO).
Cresols with less than 5% Phenol, see Cresols (all isomers) |  |  |  | CFO | CRS (CFP/CRL/CRO/CSO).
Cresylate spent caustic, see Cresylic acid, sodium salt solution |  | 2 |  | CSC | CYD.
Cresylic acid | 21 |  | 1319-77-3 | CRY
Cresylic acid, dephenolized | 21 |  | 1319-77-3 | CAD | CRY/CYN.
Cresylic acid tar | 21 |  |  | CRX
Cresylic acid with 5% or more phenol | 21 |  |  | CYN | CAD/CRY.
Cresylic acid, sodium salt solution | 5 | 2 | 34689-46-8 | CYD | CSC.
Crotonaldehyde | 19 | 2 | 123-73-9 | CTA
Crude Isononylaldehyde, see Isononyldehyde (crude) |  |  | 5435-64-3 |  | INC.
Crude Isopropanol | 20 |  | 67-63-0 |  | IPB (IPA/PAL).
Crude Piperazine, see Piperazine (crude) |  |  | 110-85-0 |  | PZC (PPZ/PIZ).
Cumene, see Alkyl(C3-C4) benzenes |  |  | 98-82-8 | CUM | AKD (PBY/PBZ).
1,5,9-Cyclododecatriene | 30 |  | 4904-61-4 | CYT
Cycloheptane | 31 |  | 291-64-5 | CYE
Cyclohexane | 31 |  | 110-82-7 | CHX
Cyclohexane-1,2-dicarboxylic acid,diisononyl ester | 34 |  | 166412-78-8 | CDE
Cyclohexane oxidation products, sodium salts solution | 43 |  |  | CYS
Cyclohexanol | 20 |  | 108-93-0 | CHN
Cyclohexanone | 18 | 2 | 108-94-1 | CCH
Cyclohexanone/Cyclohexanol mixtures | 18 | 2 |  | CYX
Cyclohexyl acetate | 34 |  | 622-45-7 | CYC
Cyclopentadiene/Styrene/Benzene mixture | 30 |  |  | CSB
1,3-Cyclopentadiene dimer (molten) | 30 | 3 | 7313-32-8 | CPD | DPT/DPV.
Cyclopentane | 31 |  | 287-92-3 | CYP
Cyclopentene | 30 |  | 142-29-0 | CPE.
p-Cymene | 32 |  | 99-87-6 | CMP
Decahydronaphthalene | 33 |  | 91-17-8 | DHN
Decaldehyde | 19 |  | 112-31-2 | DAY | IDA/DAL.
iso-Decaldehyde, see Isodecaldehyde. |  |  | 3085-26-5
n-Decaldehyde | 19 |  | 3085-26-5
Decane (all isomers), see n-Alkanes (C10+) (all isomers) |  |  | 124-18-5 | DCC | ALV (ALJ).
Decanoic acid | 4 |  | 334-48-5 | DCO | NEA.
Decene | 30 |  | 872-05-9 | DCE
Decyl acetate | 34 |  | 112-17-4 | DYA
Decyl acrylate | 14 |  | 2156-96-9 | DAT | IAI/DAR.
Decyl alcohol (all isomers) | 20 | 2, 3 | 85566-12-7 | DAX | ISA/DAN.
Decyl/Dodecyl/Tetradecyl alcohol mixture | 20 | 3 | * 112-30-1 | DYO | DAN/DAX/DDN/ISA.
Decylbenzene, see Alkyl (C9+) benzenes |  |  | 104-72-3 | DBZ | AKB.
Decyloxytetrahydrothiophene dioxide | 0 | 1 | 18760-44-6 | DHT
Detergent alkylate | 32 |  | 68442-97-7 | DKY | AKB/DBZ/DDB/TDB/TRB/UDB.
Dextrose solution, see Glucose solution |  |  | 50-99-7 | DTS | GLU.
Diacetone alcohol | 20 | 2 | 123-42-2 | DAA
Dialkyl (C10-C14) benzenes, see Alkyl (C9+) benzenes |  |  | * 55191-38-3 | DAB | AKB.
Dialkyl(C8-C9) diphenylamines | 9 |  | * 101-67-7 | DAQ
Dialkyl (C7-C13) phthalates | 34 |  | * 3648-21-3 | DAH
Including:
Di-(2-ethylhexyl) phthalate | 34 |  | 117-81-7
Diheptyl phthalate | 34 |  | 3648-21-3
Dihexyl phthalate | 34 |  | 84-75-3
Diisooctyl phthalate | 34 |  | 131-20-4
Diisodecyl phthalate | 34 |  | 89-16-7
Diisononyl phthalate | 34 |  | 28553-12-0
Dinonyl phthalate | 34 |  | 84-76-4
Dioctyl phthalate | 34 |  | 117-84-0
Ditridecyl phthalate | 34 |  | 119-06-2
Diundecyl phthalate | 34 |  | 3648-20-2
Dialkyl (C9-C10) phthalates, see Dialkyl (C7-C13) phthalates |  |  | * 84-76-4 | DLK | DLH (DAP/DHL/DHP/DID/DIE/DIF/DIN/DIO/DIT/DOP/DPA/DTP/DUP).
Dialkyl thiophosphates sodium salts solution | 34 | 3 | * 26377-29-7 | DYH
2,6-Diaminohexanoic acid phosphonate mixed salts solution | 21 |  |  | DBT
Dibromomethane | 36 |  | 74-95-3 | DBH
Dibutyl carbinol, see Nonyl alcohol (all isomers) |  |  | 623-93-8 |  | NNS (DBC/NNI/NNN).
Dibutyl hydrogen phosphonate | 34 |  | 107-66-4 | DHD
Dibutyl phthalate | 34 |  | 84-74-2 | DPA | DIT.
Dibutyl terephthalate | 34 | 3 | 1962-75-0 | DYE
Dibutylamine | 7 |  | 111-92-2 | DBA
Dibutylphenol (all isomers) | 21 |  |  | DBT
Dibutylphenols | 21 |  | 26967-68-0 | DBT
Di-tert-butylphenol | 21 |  | 128-39-2 | DBF | DBT/DBV/DBW.
2,4-Di-tert-butylphenol | 21 |  | 96-76-4 | DBV | DBF/DBT/DBW.
2,6-Di-tert-butylphenol | 21 | 3 | 128-39-2 | DBW | DBF/DBT/DBV.
Dichlorobenzene (all isomers) | 36 | 3 | 25321-22-6 | DBX | DBM/DBO/DBP.
3,4-Dichloro-1-butene | 36 |  | 760-23-6 | DCD | DCB.
Dichlorodifluoromethane | 36 |  | 75-71-8 | DCF
1,1-Dichloroethane | 36 |  | 75-34-3 | DCH
Dichloroethyl ether | 41 | 3 | 111-44-4 | DYR | DEE.
1,6-Dichlorohexane | 36 |  | 2163-00-0 | DHX
2,2′-Dichloroisopropyl ether | 41 |  | 63283-80-7 | DCI
Dichloromethane | 36 | 2 | 75-09-2 | DCM
2,4-Dichlorophenol | 21 |  | 120-83-2 | DCP
2,4-Dichlorophenoxyacetic acid/Diethanolamine salt solution | 43 |  | 5742-19-8 | DDE
2,4-Dichlorophenoxyacetic acid/Dimethylamine salt solution (70% or less) | 0 | 1, 2, 3 | 2008-39-1 | DDA | DAD/DSX.
2,4-Dichlorophenoxyacetic acid/Triisopropanolamine salt solution | 43 | 2 | 34075-45-1 | DTI
1,1-Dichloropropane | 36 |  | 78-99-9 | DPB | DPC/DPL/DPP/DPX.
1,2-Dichloropropane | 36 | 2, 3 | 78-87-5 | DPP | DPB/DPC/DPL/DPX.
1,3-Dichloropropane | 36 |  | 142-28-9 | DPC | DPB/DPL/DPP/DPX.
Dichloropropene (all isomers) | 15 |  | 26952-23-8 | DCW | DPF/DPU.
1,3-Dichloropropene | 15 |  | 542-75-6 |  | DCW/DPF.
Dichloropropene/Dichloropropane mixtures | 15 |  | 8003-19-8 | DMX | DCW/DPB/DPC/DPL/DPP/DPU/DPX.
2,2-Dichloropropionic acid | 4 |  | 75-99-0 | DCN
Dicyclopentadiene, Resin Grade, 81-89% | 30 | 3 | 77-73-6 | DPV | CPD/DPT.
Dicyclopentadiene, see 1,3-Cyclopentadiene dimer (molten) |  |  | 77-73-6 | DPT | CPD (DPV).
Diethanolamine | 8 | 2 | 111-42-2 | DEA
Diethanolamine salt of 2,4-Dichlorophenoxyacetic acid solution, see 2,4-Dichlorophenoxyacetic acid, Diethanolamine salt solution |  |  | 5742-19-8 | DZZ | DDE.
Diethylamine | 7 |  | 109-89-7 | DEN
Diethylaminoethanol | 8 |  | 100-37-8 | DAE
2,6-Diethylaniline | 9 |  | 579-66-8 | DMN | DIY.
Diethylbenzene | 32 |  | 25340-17-4 | DEB
Diethylene glycol | 40 | 2 | 111-46-6 | DEG
Diethylene glycol butyl ether, see Poly(2-8)alkylene glycol monoalkyl (C1-C6) ether |  |  | 112-34-5 | DME | PAG.
Diethylene glycol butyl ether acetate, see Poly(2-8)alkylene glycol monoalkyl (C1-C6) ether acetate |  |  | 124-17-4 | DEM | PAF.
Diethylene glycol dibenzoate | 34 |  | 120-55-8 | DGZ
Diethylene glycol dibutyl ether | 40 |  | 112-73-2 | DIG
Diethylene glycol diethyl ether | 40 |  | 112-36-7 | DGS
Diethylene glycol ethyl ether, see Poly(2-8)alkylene glycol monoalkyl (C1-C6) ether |  |  | 111-90-0 | DGE | PAG.
Diethylene glycol ethyl ether acetate, see Poly(2-8)alkylene glycol monoalkyl(C1-C6) ether acetate |  |  | 112-15-2 | DGA | PAF.
Diethylene glycol n-hexyl ether, see Poly(2-8)alkylene glycol monoalkyl(C1-C6) ether |  |  | 112-59-4 | DHE | PAG.
Diethylene glycol methyl ether, see Poly(2-8)alkylene glycol monoalkyl(C1-C6) ether |  |  | 111-77-3 | DGM | PAG.
Diethylene glycol methyl ether acetate, see Poly(2-8)alkylene glycol monoalkyl(C1-C6) ether acetate |  |  | 629-38-9 | DGR | PAF.
Diethylene glycol phenyl ether | 40 |  | 104-68-7 | DGP
Diethylene glycol phthalate | 34 |  | 2202-98-4 | DGL
Diethylene glycol propyl ether, see Poly(2-8)alkylene glycol monoalkyl(C1-C6) ether |  |  | 6881-94-3 | DGO | PAG.
Diethylenetriamine | 7 | 2 | 111-40-0 | DET
Diethylenetriaminepentaacetic acid, pentasodium salt solution | 43 |  | 140-01-2 | DYS
Diethylethanolamine, see Diethylaminoethanol |  |  | 100-37-8 |  | DAE.
Diethyl ether | 8 |  | 60-29-7 | EET
Diethyl hexanol, see Decyl alcohol (all isomers) |  |  | 19398-78-8 |  | DAX.
Di-(2-ethylhexyl) adipate | 34 |  | 103-23-1 | DEH
Di-(2-ethylhexyl) phosphoric acid | 1 |  | 298-07-7 | DEP
Di-(2-ethylhexyl) phthalate, see Dialkyl (C7-C13) phthalate |  |  | 117-81-7 | DIE | DAH.
Di-(2-ethylhexyl) terephthalate | 34 |  | 6422-86-2 | DHH
Diethyl phthalate | 34 |  | 84-66-2 | DPH
Diethyl sulfate (alternately sulphate) | 34 |  | 64-67-5 | DSU
Diglycidyl ether of Bisphenol A | 16 |  | 1675-54-3 | BDE
Diglycidyl ether of Bisphenol F | 16 |  | 2095-03-6 | DGF
Diheptyl phthalate, see Dialkyl (C7-C13) phthalate |  |  | 3648-21-3 | DHP | DAH.
Di-n-hexyl adipate | 34 |  | 110-33-8 | DHA
Dihexyl phthalate, see Dialkyl (C7-C13) phthalate |  |  | 84-75-3 | DHL
Diisobutyl carbinol, see Nonyl alcohol (all isomers) |  |  | 108-82-7 | DBC | NNS.
Diisobutyl ketone | 18 |  | 108-83-8 | DIK
Diisobutyl phthalate | 34 |  | 84-69-5 | DIT | DPA.
Diisobutylamine | 7 |  | 110-96-3 | DBU
Diisobutylene | 30 |  | 25167-70-8 | DBL
Diisodecyl phthalate, see Dialkyl (C7-C13) phthalates |  |  | 26761-40-0 | DID | DAH.
1,4-Dihydro-9,10-dihydroxy anthracene, disodium salt solution | 5 |  | 73347-80-5 | DDH
Diisononyl adipate | 34 |  | 33703-08-1 | DNY
Diisononyl phthalate, see Dialkyl (C7-C13) phthalates |  | 2 | 28553-12-0 | DIN | DAH.
Diisooctyl phthalate, see Dialkyl (C7-C13) phthalate |  |  | 27554-26-3 | DIO | DAH/(DIE/DOP).
Diisopropanolamine | 8 |  | 110-97-4 | DIP
Diisopropylamine | 7 |  | 108-18-9 | DIA | DNA.
Diisopropylbenzene (all isomers) | 32 |  | 25321-09-9 | DIX
Diisopropylnaphthalene | 32 |  | 24157-81-1 | DII
1,4-Dihydro-9,10-dihydroxy anthracene, disodium salt solution | 5 |  | 73347-80-5 | DDH
N,N-Dimethylacetamide | 10 |  | 127-19-5 | DAC | DLS.
N,N-Dimethylacetamide solution (40% or less) | 10 | 3 | 127-19-5 | DLS | DAL.
Dimethyl adipate | 34 |  | 627-93-0 | DLA
Dimethylamine | 7 |  | 124-40-3 | DMA | DMC/DMG/DMY.
Dimethylamine salt of 4-Chloro-2-methylphenoxyacetic acid solution, see 4-Chloro-2-methylphenoxyacetic acid, Dimethylamine salt solution |  |  | 2039-46-5 |  | CDM.
Dimethylamine salt of 2,4-Dichlorophenoxyacetic acid solution, see 2,4-Dichlorophenoxyacetic acid, Dimethylamine salt solution (70% or less) |  |  | 2008-39-1 | DAD | DDA (DSX).
Dimethylamine solution (45% or less) | 7 | 3 | 124-40-3 | DMG | DMA/DMC/DMY.
Dimethylamine solution (greater than 45% but not greater than 55%) | 7 | 3 | 124-40-3 | DMY | DMA/DMC/DMG.
Dimethylamine solution (greater than 55% but not greater than 65%) | 7 | 3 | 124-40-3 | DMC | DMA/DMG/DMY.
2,6-Dimethylaniline | 9 |  | 87-62-7 | DMM | DDL.
Dimethylbenzene, see Xylenes |  | 2 | 1330-20-7 |  | XLX/XLM/XLO/XLP.
Dimethylcyclicsiloxane hydrolyzate | 34 |  | * 541-05-9 | DXZ
N,N-Dimethylcyclohexylamine | 7 |  | 98-94-2 | DXN
Dimethyl disulfide (alternately disulphide) | 0 | 1, 2, 3 | 624-92-0 | DSK
Dimethyldodecylamine, see N,N-Dimethyldodecylamine | 7 |  | 112-18-5 |  | DDY.
N,N-Dimethyldodecylamine | 7 |  | 112-18-5 | DDY
Dimethylethanolamine | 8 |  | 108-01-0 | DMB
Dimethyl ether | 41 |  | 115-10-6 | DIM
Dimethylformamide | 10 | 2 | 68-12-2 | DMF
Dimethyl furan | 41 |  | 625-86-5 | DFU
Dimethyl glutarate | 34 |  | 1119-40-0 | DGT
Dimethyl hydrogen phosphite | 34 | 2 | 868-85-9 | DPI
Dimethyl naphthalene sulfonic (alternately sulphonic) acid, sodium salt solution | 34 | 2 | 27178-87-6 | DNS
Dimethyl octanoic acid | 4 |  | 29662-90-6 | DMO
Dimethyl phthalate | 34 |  | 131-11-3 | DTL
Dimethylpolysiloxane, see Polydimethylsiloxane |  |  | 9016-00-6 | DMP
2,2-Dimethylpropane-1,3-diol (molten or solution) | 20 | 3 | 126-30-7 | DDI
Dimethyl succinate | 34 |  | 106-65-0 | DSE
Dinitrotoluene (molten) | 42 | 3 | 121-14-2 | DNM | DNL/DNU/DTT.
Dinonyl phthalate, see Dialkyl (C7-C13) phthalates |  |  | 84-76-4 | DIF | DAH.
Dioctyl phthalate, see Dialkyl (C7-C13) phthalates |  |  | 117-84-0 | DOP | DAH (DIE/DIO).
1,4-Dioxane | 41 |  | 123-91-1 | DOX
Dipentene | 30 |  | 138-86-3 | DPN
Diphenyl | 32 |  | 92-52-4 | DIL
Diphenylamine (molten) | 9 |  | 122-39-4 | DAG | DAM.
Diphenylamine, reaction product with 2,2,4-trimethylpentene | 9 |  | 68921-45-9 | DAK
Diphenylamines, alkylated | 9 |  | 68921-45-9 | DAJ
Diphenyl/Diphenyl ether mixtures | 33 |  | 8004-13-5 | DDO
Diphenyl ether | 41 |  | 101-84-8 | DPE
Diphenyl ether/Biphenyl ether mixture, see Diphenyl/Diphenyl ether mixture |  |  | 8004-13-5 |  | DDO.
Diphenyl ether/Diphenyl phenyl ether mixture | 41 |  | 8004-13-5 | DOB
Diphenylmethane diisocyanate | 12 | 2 | 101-68-8 | DPM
Diphenyl oxide, see Diphenyl ether |  |  | 101-84-8 |  | DPE.
Diphenylol propane-Epichlorohydrin resins | 0 | 1 | 25068-38-6 | DPR
Di-n-propylamine | 7 |  | 142-84-7 | DNA | DIA.
Dipropylene glycol | 40 |  | 25265-71-8 | DPG
Dipropylene glycol butyl ether, see Poly(2-8)alkylene glycol monoalkyl(C1-C6) ether |  |  | 29911-28-2 | DBG | PAG.
Dipropylene glycol dibenzoate | 34 |  | 94-51-9 | DGY
Dipropylene glycol methyl ether, see Poly(2-8)alkylene glycol monoalkyl(C1-C6) ether |  |  | 34590-94-8 | DPY | PAG.
Distillates, flashed feed stocks | 33 |  | 8002-05-9 | DFF
Distillates, straight run | 33 |  | 68814-87-9 | DSR
Di-tert-butyl phenol | 21 |  |  | DBF | DBT/DBV/DBW.
2,4-Di-tert-butyl phenol | 21 |  | 96-76-4 | DBV | DBF/DBT/DBW.
2,6-Di-tert-butyl phenol | 21 |  | 128-39-2 | DBW | DBF/DBT/DBV.
Dithiocarbamate ester (C7-C35) | 34 |  |  | DHO
Ditridecyl adipate | 34 |  | 16958-92-2 | DTY
Ditridecyl phthalate, see Dialkyl (C7-C13) phthalate |  |  | 119-06-2 | DTP | DAH.
Diundecyl phthalate, see Dialkyl (C7-C13) phthalates |  |  | 3648-20-2 | DUP | DAH.
Dodecane (all isomers), see n-Alkanes (C10+) (all isomers) |  |  | 13475-82-6 | DOF | ALV (ALJ/DOC).
tert-Dodecanethiol | 20 | 2 | 25103-58-6 | DDL | LRM.
Dodecene (all isomers) | 30 | 3 | 25378-22-7 | DOZ | DDC/DOD.
1-Dodecene, see Dodecene (all isomers) | 30 |  |  | DDC | DOZ.
Dodecanol (all isomers), see Dodecyl alcohol (all isomers) |  | 2 | 112-53-8 | DDN | LAL.
2-Dodecenylsuccinic acid, dipotassium salt solution | 34 |  | 57195-28-5 | DSP
Dodecyl alcohol (all isomers) | 20 | 2 | 112-53-8 | DDN | ASK/ASY/LAL.
Dodecylamine/Tetradecylamine mixture | 7 | 2 | * 124-22-1 | DTA
Dodecylbenzene, see Alkyl (C9+) benzenes |  |  | 123-01-3 | DDB | AKB.
Dodecylbenzenesulfonic (alternately Dedecylbenzenesulphonic) acid | 0 | 1, 2 | 27176-87-0 | DSA
Dodecyldimethylamine/Tetradecyldimethylamine mixture | 7 |  | * 112-18-5 | DOT
Dodecyl diphenyl ether disulfonate (alternately disulphonate) solution | 43 |  | 25167-32-2 | DTA
Dodecyl hydroxypropyl sulfide (alternately sulphide) | 0 | 1 | 67124-09-8 | DOH
n-Dodecyl mercaptan | 21 |  | 112-55-0 | DBT
Dodecyl methacrylate | 14 |  | 142-90-5 | DDM
Dodecyl/Octadecyl methacrylate mixture | 14 |  | * 142-90-5 | DOM | DDM.
Dodecyl/Pentadecyl methacrylate mixture | 14 |  | * 142-90-5 | DDP
Dodecyl phenol | 21 |  | 27193-86-8 | DOL
Dodecyl xylene | 32 |  | 66697-27-6 | DXY
Drilling brines (containing Calcium, Potassium or Sodium salts) | 43 |  |  | DRL | DRB/DRS.
Drilling brines (containing Zinc salts) | 43 |  |  | DZB | DRB.
Drilling brines, including: Calcium bromide solution, Calcium chloride solution and Sodium chloride solution | 43 | 3 |  |  | DRS/DRL.
Drilling mud (low toxicity) (if flammable or combustible) | 33 |  |  | DRO | DRM/DRN/DRP.
Drilling mud (low toxicity) (if non-flammable or non-combustible) | 43 |  |  | DRP | DRM/DRN/DRO.
Epichlorohydrin | 17 |  | 106-89-8 | EPC
Epoxy resin | 16 |  |  | EPN
ETBE, see Ethyl tert-butyl ether |  |  | 637-92-3 |  | EBE.
Ethane | 31 |  | 74-84-0 | ETH
Ethanolamine | 8 |  | 141-43-5 | MEA
2-Ethoxyethanol, see Ethylene glycol monoalkyl ethers |  |  | 110-80-5 | EEO | EGC (EGE).
2-Ethoxyethyl acetate | 34 | 2 | 111-15-9 | EEA | EGA.
Ethoxylated alkyloxy alkyl amine | 8 |  | 68155-39-5 | ELM
Ethoxylated alcohols, C11-C15, see alcohol polyethoxylates |  |  | 9002-92-0 |  | AEA/AEB/AED/AET/APV/APW/APX.
Ethoxylated long-chain (C16+) alkyloxyalkylamine | 8 |  |  | ELA
Ethoxylated tallow alkyl amine | 7 |  | 61791-26-2 | TAY | TAG/TAR.
Ethoxylated tallow alkyl amine, glycol mixture | 7 |  |  | TAG | TAR/TAY.
Ethoxylated tallow amine (>95%) | 7 | 3 | 61791-26-2 | TAR | TAG/TAY.
Ethoxy triglycol, see Poly(2-8)alkylene glycol monoalkyl (C1-C6) ether |  |  | 112-50-5 | ETG | PAG (ETR/TGE).
Ethoxy triglycol (crude) | 40 |  | 112-50-5 | ETR
Ethyl acetate | 34 | 2 | 141-78-6 | ETA
Ethyl acetoacetate | 34 |  | 141-97-9 | EAA
Ethyl acrylate | 14 | 2 | 140-88-5 | EAC
Ethyl alcohol | 20 | 2 | 64-17-5 | EAL
Ethylamine | 7 | 2 | 75-04-7 | EAM | EAN/EAO.
Ethylamine solution (72% or less) | 7 | 3 | 75-04-7 | EAN | EAM/EAO.
Ethyl amyl ketone | 18 |  | 106-68-3 | EAK | ELK.
Ethylbenzene | 32 |  | 100-41-4 | ETB
Ethyl butanol | 20 |  | 97-95-0 | EBT
N-Ethylbutylamine | 7 |  | 13360-63-9 | EBA
Ethyl tert-butyl ether | 41 | 2 | 637-92-3 | EBE
Ethyl butyrate | 34 |  | 105-54-4 | EBR
Ethyl chloride | 36 |  | 75-00-3 | ECL
Ethyl cyclohexane | 31 |  | 1678-91-7 | ECY
N-Ethylcyclohexylamine | 7 |  | 5459-93-8 | ECC
2-Ethyl-2-(2,4-dichlorophenoxy) acetate | 34 |  | 533-23-3 | EDY
2-Ethyl-2-(2,4-dichlorophenoxy) propionate | 34 |  | 58048-39-8 | EDP
S-Ethyl dipropylthiocarbamate | 34 | 3 | 759-94-4 | ECB
Ethylene | 30 |  | 74-85-1 | ETL
Ethyleneamine EA 1302 | 7 | 2 | 593-67-9 | EMX
Ethylene carbonate | 34 |  | 96-49-1 | ECR
Ethylene chlorohydrin | 20 |  | 107-07-3 | ECH
Ethylene cyanohydrin | 20 | 2 | 109-78-4 | ETC
Ethylenediamine | 7 | 2 | 107-15-3 | EDA | EMX.
Ethylenediaminetetraacetic acid/tetrasodium salt solution | 43 |  | 64-02-8 | EDS
Ethylene dibromide | 36 |  | 106-93-4 | EDB
Ethylene dichloride | 36 | 2 | 107-06-2 | EDC
Ethylene glycol | 20 | 2 | 107-21-1 | EGL | EAG.
Ethylene glycol acetate | 34 |  | 542-59-6 | EGO
Ethylene glycol butyl ether, see Ethylene glycol monoalkyl ethers |  |  | 111-76-2 | EGM | EGC.
Ethylene glycol tert-butyl ether, see Ethylene glycol monoalkyl ethers |  |  | 7580-85-0 | EGG | EGC.
Ethylene glycol butyl ether acetate | 34 |  | 112-07-2 | EMA
Ethylene glycol diacetate | 34 |  | 111-55-7 | EGY
Ethylene glycol dibutyl ether | 40 |  | 112-48-1 | EGB
Ethylene glycol ethyl ether, see Ethyl glycol monoalkyl ethers |  |  | 110-80-5 | EGE | EGC/EEO.
Ethylene glycol ethyl ether acetate, see 2-Ethoxyethyl acetate |  | 2 | 111-15-9 | EGA | EEA.
Ethylene glycol hexyl ether, see Ethylene glycol monoalkyl ethers |  |  | 112-25-4 | EGH | EGC.
Ethylene glycol isobutyl ether, see Ethylene glycol monoalkyl ethers |  |  | 224-658-5 |  | EGC (EGG/EGM).
Ethylene glycol isopropyl ether, see Ethylene glycol monoalkyl ethers |  |  | 109-59-1 | EGI | EGC.
Ethylene glycol methyl butyl ether, see Ethylene glycol monoalkyl ethers |  |  | 13343-98-1 | EMB | EGC.
Ethylene glycol methyl ether, see Ethylene glycol monoalkyl ethers |  |  | 109-86-4 | EME | EGC.
Ethylene glycol methyl ether acetate | 34 |  | 110-49-6 | EGT
Ethylene glycol monoalkyl ethers | 40 | 2 |  | EGC
Including:
Ethylene glycol butyl ether | 40 |  | 111-76-2
Ethylene glycol tert-butyl ether | 40 |  | 7580-85-0
Ethylene glycol ethyl ether | 40 |  | 111-15-9
Ethylene glycol hexyl ether | 40 |  | 112-25-4
Ethylene glycol isobutyl ether | 40 |  | 224-658-5
Ethylene glycol isopropyl ether | 40 |  | 109-59-1
Ethylene glycol methyl ether | 40 |  | 109-86-4
Ethylene glycol methyl butyl ether | 40 |  | 13343-98-1
Ethylene glycol propyl ether | 40 |  | 2807-30-9
Ethylene glycol phenyl ether | 40 |  | 122-99-6 | EPE
Ethylene glycol phenyl ether/Diethylene glycol phenyl ether mixture | 40 |  | 122-99-6/104 68 7 | EDX
Ethylene glycol propyl ether, see Ethylene glycol monoalkyl ethers |  |  | 2807-30-9 | EGP | EGC/EGI/EGN.
Ethylene glycol n-propyl ether, see Ethylene glycol monoalkyl ethers |  |  | 2807-30-9 | EGN | EGC (EGI/EGP).
Ethylene glycol (>75%)/Sodium alkyl carboxylates/borax mixture | 20 |  |  | EBX
Ethylene glycol (>85%)/Sodium alkyl carboxylates mixture | 20 |  |  | ESX
Ethylene oxide | 0 | 1 | 75-21-8 | EOX
Ethylene oxide/Propylene oxide mixture | 16 |  | 75-21-8/75-56-9 | EPF | EPM.
Ethylene oxide/Propylene oxide mixture with an Ethylene oxide content not more than 30% by mass | 16 | 3 | 75-21-8/75-56-9 | EPM | EPF.
Ethylene-Propylene copolymer (in liquid mixtures) | 31 |  | 9010-79-1 | EPY
Ethylene-Vinyl acetate copolymer (emulsion) | 43 |  | 24937-78-8 | ECV
Ethyl ether, see Diethyl ether |  |  | 60-29-7 |  | EET.
Ethyl-3-ethoxypropionate | 34 |  | 763-69-9 | EEP
2-Ethylhexaldehyde, see Octyl aldehydes |  |  | 123-05-7 | EHA | OAL (OLX).
2-Ethylhexanoic acid, see Octanoic acid (all isomers) |  |  | 149-57-5 | EHO | OAY (OAA).
2-Ethylhexanol, see Octanol |  |  | 104-76-7 | EHX | OCA (OTA).
2-Ethylhexyl acrylate | 14 |  | 103-11-7 | EAI
2-Ethylhexylamine | 7 |  | 104-75-6 | EHM
Ethyl hexyl phthalate | 34 |  | 117-81-7 | EHE
Ethyl hexyl tallate | 34 |  | 68334-13-4 | EHT
2-Ethyl-2-(hydroxymethyl) propane-1,3-diol (C8-C10) ester | 34 |  | 77-99-6 | EHD
Ethyl lactate | 34 |  | 97-64-3 | ELT
Ethylidene norbornene | 30 | 2 | 16219-75-3 | ENB
Ethyl methacrylate | 14 |  | 97-63-2 | ETM
N-Ethylmethylallylamine | 7 |  | 18328-90-0 | EML
Ethyl propionate | 34 |  | 105-37-3 | EPR
2-Ethyl-3-propylacrolein | 19 | 2 | 645-62-5 | EPA
2-Ethyl-6-methyl-N-(1′-methyl-2-methoxyethyl)aniline | 9 |  | 51219-00-2 | EEM.
o-Ethyl phenol | 21 |  | 90-00-6 | EPL
Ethyl toluene | 32 |  | 25550-14-5 | ETE
Fatty acid methyl esters | 34 | 3 | 67762-38-3 | FME
Fatty acids (C8-C10) | 34 | 3 | * 124-07-2 | FDS
Fatty acids (C12+) | 34 | 3 | * 143-07-7 | FDT | FAB/FAD/FAI/FDI.
Fatty acids (saturated, C13+) | 34 |  | 700041-79-8 | FAB | FAD.
Fatty acids (saturated, C14+), see Fatty acids (saturated, C13+) |  |  | 700041-79-8 | FAD | FAB.
Fatty acids (C16+) | 34 | 3 | * 57-10-3 | FDI
Fatty acids, essentially linear (C6-C18) 2-ethylhexyl ester | 34 | 2, 3 |  | FAE
Ferric chloride solution | 1 |  | 7705-08-0 | FCS | FCL.
Ferric hydroxyethylethylenediaminetriacetic acid, trisodium salt solution | 43 | 2 |  | FHX | STA.
Ferric nitrate/Nitric acid solution | 3 | 2 | 7782-61-8 | FNN
Fish oil, see Oil, edible: Fish |  | 2 | 8016-13-5 |  | OFS (AFN).
Fish protein concentrate (containing 4% or less formic acid) | 4 |  |  | FPC
Fish silage protein concentrate (containing 4% or less formic acid) | 4 |  |  | FSC
Fish solubles (water based fish meal extracts) | 43 |  |  | FSO
Fluorosilicic acid (20-30%) in water solution | 1 | 3 | 16961-83-4 | FSK | FSJ/FSL/HFS.
Fluorosilicic acid (30% or less) | 1 |  | 16961-83-4 | FSJ | FSK/FSL/HFS.
Formaldehyde (50% or more), Methanol mixtures | 19 | 2 | 50-00-0 | MTM
Formaldehyde solutions (37%-50%) | 19 | 2 | 50-00-0 | FMS | FMG/FMR.
Formaldehyde solutions (45% or less) | 19 | 2, 3 | 50-00-0 | FMR | FMG/FMS.
Formamide | 10 |  | 75-12-7 | FAM
Formic acid | 4 | 2 | 64-18-6 | FMA | FMB.
Formic acid (85% or less) | 4 | 2 | 64-18-6 | FMB | FMA.
Formic acid (over 85%) | 4 | 2, 3 | 64-18-6 | FMD
Formic acid mixture (containing up to 18% Propionic acid and up to 25% Sodium formate) | 4 | 2, 3 | 64-18-6 | FMC | FMA/FMB.
Fructose solution | 43 |  | 57-48-7 | FTS | FRT.
Fumaric adduct of Rosin, water dispersion | 43 |  | 65997-04-8 | FAR
Fuming sulfuric (alternately sulphuric) acid, see Oleum |  | 2 | 8014-95-7
Furfural | 19 |  | 98-01-1 | FFA
Furfuryl alcohol | 20 | 2 | 98-00-0 | FAL
Gas oil, cracked, see Oil, misc.: Gas, cracked |  |  | 64741-62-4 |  | GOC.
Gasoline blending stock, alkylates | 33 |  | 64741-64-6 | GAK
Gasoline blending stock, reformates | 33 |  | 8006-61-9 | GRF
Gasolines:
Automotive (containing not more than 4.23 grams lead per gal.) | 33 |  | 86290-81-5 | GAT
Aviation (containing not more than 4.86 grams lead per gal.) | 33 |  |  | GAV | AVA.
Casinghead (natural) | 33 |  | 68425-31-0 | GCS
Polymer | 33 |  | 8006-61-9 | GPL
Straight run | 33 |  | 68606-11-1 | GSR
Gasolines: Pyrolysis (containing Benzene), see Pyrolysis gasoline (containing Benzene) |  |  | 68477-58-7 | GPY | PYG.
Glucitol/Glycerol blend propoxylated (containing less than 10% amines) | 40 | 3 |  | GGA
Glucitol/Glycerol blend propoxylated (containing 10% or more amines) | 40 |  |  | GGB
Glucose solution | 43 |  | 50-99-7 | GLS | DTS.
Glutaraldehyde solutions (50% or less) | 19 |  | 111-30-8 | GTA
Glycerine | 20 | 2 | 56-81-5 | GCR
Glycerine (83%)/Dioxanedimethanol (17%) mixture | 20 |  |  | GDN | GDM.
Glycerol, see Glycerine |  | 2 | 56-81-5 |  | GCR.
Glycerol ethoxylated | 40 |  | 31694-55-0 | GXA
Glycerol monooleate | 20 |  | 25496-72-4 | GMO
Glycerol polyalkoxylate | 40 |  | 700038-65-9 | GPA
Glycerol propoxylated | 40 | 3 | 25791-96-2 | GXP
Glycerol, propoxylated and ethoxylated | 40 | 3 | 9082-00-2 | GXE
Glycerol/Sucrose blend propoxylated and ethoxylated | 40 | 3 |  | GSB
Glyceryl triacetate | 34 |  | 102-76-1 | GCT
Glycidyl ester of C10 trialkyl acetic acid | 34 |  |  | GLU | GLT.
Glycidyl ester of tertiary carboxylic acid, see Glycidyl ester of C10 trialkyl acetic acid |  |  |  | GLT | GLU.
Glycidyl ester of tridecyl acetic acid, see Glycidyl ester of C10 trialkyl acetic acid |  |  |  | GLT | GLU.
Glycidyl ester of Versatic acid, see Glycidyl ester of C10 trialkyl acetic acid |  |  |  | GLT | GLU.
Glycine, sodium salt solution | 7 |  | 56-40-6 | GSS
Glycol diacetate, see Ethylene glycol diacetate |  |  | 111-55-7 |  | EGY.
Glycol mixture, crude | 20 |  | 107-21-1 | GMC
Glycol triacetate, see Glyceryl triacetate |  |  | 102-76-1 |  | GCT.
Glycolic acid solution (70% or less) | 4 | 3 | 79-14-1 | GLC
Glyoxal solution (40% or less) | 19 | 3 | 107-22-2 | GOS
Glyoxylic acid solution (50% or less) | 4 | 3 | 298-12-4 | GAC
Glyphosate solution (not containing surfactant) | 7 |  | 1071-83-6 | GIO | RUP.
Grape Seed Oil, see Oil, edible: Grape seed |  |  | 8024-22-4
Groundnut oil, see Oil, edible: Groundnut |  |  | 8002-03-7 |  | OGN (VEO).
Hazelnut oil, see Oil, edible: Hazelnut |  |  | 84012-21-5 |  | OHN (VEO).
Heptadecane (all isomers), see n-Alkanes (C10+) (all isomers) |  |  | 629-78-7 |  | ALV (ALJ).
Heptane (all isomers), see Alkanes (C6-C9) |  |  | 142-82-5 | HMX | ALK(HPI/HPT).
n-Heptanoic acid | 4 |  | 111-14-8 | HEN | HEP.
Heptanol (all isomers) | 20 | 3 | 111-70-6 | HTX | HTN.
Heptene (all isomers) | 30 | 2, 3 | 592-76-7 | HPX | THE.
Heptyl acetate | 34 |  | 112-06-1 | HPE
Heptylbenzenes, see Alkyl (C5-C8) benzenes |  |  | 1078-71-3 |  | AKD.
Herbicide (C15-H22-NO2-Cl), see Metolachlor |  |  | 51218-45-2 |  | MCO.
Hexadecanol (Cetyl alcohol), see Alcohols (C13+) |  |  | 36653-82-4 |  | ALY (ASY/AYL).
1-Hexadecylnaphthalene/1,4-bis(Hexadecyl)naphthalene mixture | 32 |  | * 56388-47-7 | HNH | HNI.
1-n-Hexadecylnaphthalene (90%)/1,4-di-n-(Hexadecyl)naphthalene (10%) | 32 |  | * 56388-47-7 | HNI | HNH.
Hexaethylene glycol, see Polyethylene glycol |  |  | 2615-15-8 | HMG | PEG.
1,3,5-Hexahydrotriethanol-1,3,5-triazine solution | 9 |  |  | HES
Hexahydro-1,3,5-trimethyl-1,3,5-triazine solution (45% or less) | 9 |  |  | HET
Hexamethylene diisocyanate | 12 |  | 822-06-0 | HMS | HDI.
Hexamethylene glycol | 20 |  | 629-11-8 | HMG | HXG.
Hexamethylenediamine (molten) | 7 | 3 | 124-09-4 | HME | HMD/HMC.
Hexamethylenediamine adipate (50% in water) | 43 |  | 15511-81-6 | HAM | HAN.
Hexamethylenediamine adipate solution | 43 |  | 15511-81-6 | HAN | HAM.
Hexamethylenediamine solution | 7 |  | 124-09-4 | HMC | HMD/HME.
Hexamethyleneimine | 7 |  | 111-49-9 | HMI
Hexamethylenetetramine solutions | 7 |  | 100-97-0 | HTS | HMT.
Hexane (all isomers), see Alkanes (C6-C9) |  | 2 | 110-54-3 | HXS | ALK (IHA/HXA).
1,6-Hexanediol, distillation overheads | 4 | 2, 3 | 629-11-8 | HDO
Hexanoic acid | 4 |  | 142-62-1 | HXO
Hexanol | 20 |  | 111-27-3 | HXM | HEW/HEZ/HXN.
Hexene (all isomers) | 30 | 2, 3 | 592-41-6 | HEX | HXE/HXT/HXU/HXV/MPN/MTN.
Hexyl acetate | 34 |  | 142-92-7 | HAE
Hexylbenzenes, see Alkyl (C5-C8) benzenes |  |  | 1077-16-3 |  | AKD.
Hexylene glycol, see Hexamethylene glycol |  |  | 107-41-5 | HXG | HMG.
Hog grease, see Lard |  |  | 61789-99-9 |  | LRD.
Hydrochloric acid | 1 |  | 7647-01-0 | HCL
Hydrofluorosilicic acid (25% or less), see Fluorosilicic acid (30% or less) |  |  | 16961-83-4 |  | FSJ(FSK/FSL/HFS).
bis(Hydrogenated tallow alkyl)methyl amines | 7 |  | 61788-63-4 | HTA
Hydrogen peroxide solutions (over 8% but not more than 60% by mass) | 0 | 1, 3 | 7722-84-1 | HPN | HPO/HPS.
Hydrogen peroxide solutions (over 60% but not more than 70% by mass) | 0 | 1, 3 | 7722-84-1 | HPS | HPN/HPO.
Hydrogenated starch hydrolysate | 0 | 1, 3 | 68425-17-2 | HSH
2-Hydroxyethyl acrylate | 14 | 2 | 818-61-1 | HAI
N-(Hydroxyethyl)ethylenediamine triacetic acid, trisodium salt solution | 43 |  | 207386-87-6 | HET
N,N-bis(2-Hydroxyethyl) oleamide | 10 |  | 93-83-4 | HOO
2-Hydroxy-4-(methylthio)butanoic acid | 4 |  | 583-91-5 | HBA
Hydroxyl terminated polybutadiene, see Polybutadiene, hydroxyl terminated |  |  | 69102-90-5 |  | PHT.
alpha-Hydro-omega-hydroxytetradeca(oxytetramethylene) | 40 |  |  | HTO | PYS/PYT.
Illipe oil, see Oil, edible: Illipe |  |  | 68956-68-3 |  | ILO (VEO).
Isoamyl alcohol | 20 | 3 | 123-51-3 | IAA | AAI/AAL/AAN/APM/ASE.
Isobutyl alcohol | 20 | 2, 3 | 78-83-1 | IAL | BAN/BAS/BAT/BAY.
Isobutyl formate | 34 | 3 | 542-55-2 | BFI | BFN/BFO.
Isobutyl methacrylate | 14 | 3 | 97-86-9 | BMI | BMH/BMN.
Isodecaldehyde | 19 |  | 3085-26-5 |
Isononylaldehyde (crude) | 19 |  | 5435-64-3 | INC
Isophorone | 18 | 2 | 78-59-1 | IPH
Isophoronediamine | 7 |  | 2855-13-2 | IPI
Isophorone diisocyanate | 12 |  | 4089-71-9 | IPD
Isoprene (all isomers) | 30 |  | 78-79-5 | IPR
Isoprene (part refined) | 30 |  | 78-79-5 | IPS | IPR/ISC.
Isoprene concentrate (Shell) | 30 |  | 78-79-5 | ISC
Isopropanolamine | 8 | 3 | 78-96-6 | MPA | IPF/PAX/PLA.
Isopropanolamine solution | 8 | 3 | 78-96-6 | PAI | MPA/PAY/PLA/PRG.
Isopropyl acetate | 34 | 3 | 108-21-4 | IAC | PAT.
Isopropyl alcohol | 20 | 2, 3 | 67-63-0 | IPA | IPB/PAL.
Isopropylamine | 7 | 3 | 75-31-0 | IPP | IPO/IPQ/PRA.
Isopropylamine (70% or less) solution | 7 | 3 | 75-31-0 | IPQ | IPO/IPP/PRA.
Isopropylbenzene, see Alkyl (C3-C4) benzenes |  |  | 98-82-8 |  | AKC(CUM/PBY/PBZ).
Isopropylcyclohexane | 31 | 3 | 696-29-7 | IPX
Isopropyl ether | 41 | 3 | 108-20-3 | IPE | PRL/PRN.
Jatropha oil, see Oil, misc.: Jatropha |  |  | 88-6-7 |  | JTO.
Jet fuels: |  |  |  | JPO | JPT/JPF/JPV.
JP-4 | 33 |  | 50815-00-4 | JPF
JP-5 | 33 |  | 8008-20-6 | JPV
JP-8 | 33 |  | 8008-20-6 | JPE
Kaolin clay solution | 43 |  | 1332-58-7 | KLC | KLS.
Kaolin slurry | 43 |  | 1332-58-7 | KLS | KLC.
Kerosene | 33 |  | 8008-20-6 | KRS
Ketone residue | 18 |  |  | KTR
Kraft black liquor | 5 |  | 66071-92-9 | KBL | KPL.
Kraft pulping liquors (free alkali content 3% or more) (Black, Green, or White) | 5 |  | 68131-33-9 | KPL | KBL.
Lactic acid | 0 | 1, 2 | 79-33-4 | LTA
Lactonitrile solution (80% or less) | 37 | 3 | 78-97-7 | LNI
Lard | 34 |  | 61789-99-9 | LRD | OLD.
Latex, ammonia (1% or less)-inhibited | 30 | 3 | 98-82-8 | LTX
Latex: Carboxylated Styrene-Butadiene copolymer; Styrene-Butadiene rubber | 43 | 3 | 98-82-8 | LCC | LCB/LSB.
Latex, liquid synthetic | 43 |  | 98-82-8 | LLS | LCB/LCC/LSB.
Lauric acid | 34 |  | 143-07-7 | LRA
Lauric acid methyl ester/Myristic acid methyl ester mixture | 34 |  | 111-82-0 | LMM
Lauryl polyglucose, see Alkyl (C12-C14) polyglucoside solution (55% or less) |  |  | 59122-55-3 |  | AGM/LAP.
Lauryl polyglucose (50% or less), see Alkyl (C12-C14) polyglucoside solution (55% or less) |  |  | 59122-55-3 | LAP | AMG.
Lecithin | 34 |  | 8002-43-5 | LEC
Lignin liquor | 43 |  | 9005-53-2 | LNL | ALG/CLL/LGA/LGM/LSL/SHC/SHP/SHQ/SLP.
Ligninsulfonic (alternately Ligninsulphonic) acid, magnesium salt solution | 43 | 3 | 9009-75-0 | LGM | LGA/LNL/LSL.
Ligninsulfonic (alternately Ligninsulphonic) acid, sodium salt solution, see Lignin liquor or Sodium lignosulfonate (alternately lignosulphonate) solution |  |  | 8061-51-6 | LGA | LNL or SLG.
d-Limonene, see Dipentene |  |  | 5989-27-5 |  | DPN.
Linear alkyl (C12-C16) propoxyamine ethoxylate | 8 |  | 68213-26-3 | LPE
Linseed oil, see Oil, misc.: Linseed |  |  | 8001-26-1 |  | OLS.
Liquefied Natural Gas, see Methane |  |  | 74-82-8 | LNG | MTH.
Liquid chemical wastes | 0 | 1, 3 |  | LCW
Liquid Streptomyces solubles | 43
Long-chain alkaryl polyether (C11-C20) | 41 |  |  | LCP
Long-chain alkaryl sulfonic (alternately sulphonic) acid (C16-C60) | 0 | 1 |  | LCS
Long-chain alkyl amine | 7 |  | 61789-79-5 | LAA
Long-chain alkylphenate/Phenol sulfide (alternately sulphide) mixture | 21 |  |  | LPS
Long-chain alkylphenol (C14-C18) | 21 |  |  | LCA
Long-chain alkylphenol (C18-C30) | 21 |  |  | LCK
Long-chain alkyl (C13+) salicylic acid | 4 |  | 69-72-7 | LAS
Long-chain polyetheramine in alkyl (C2-C4)benzenes | 7 |  |  | LCE
L-Lysine solution (60% or less) | 43 | 3 | 25988-63-0 | LYS
Magnesium chloride solution | 0 | 1, 2 | 7786-30-3 | MGL
Magnesium hydroxide slurry | 5 |  | 1309-42-8 | MHS
Magnesium long-chain alkaryl sulfonate (alternately sulphonate) (C11-C50) | 34 |  | * 115254-47-2 | MAS | MSE.
Magnesium long-chain alkyl phenate sulfide (alternately sulphide) (C8-C20) | 34 |  |  | MPS
Magnesium long-chain alkyl salicylate (C11+) | 34 |  |  | MLS
Magnesium nitrate solution (66.7%) | 43 |  | 13446 | MGP | MGN/MGO.
Magnesium nonyl phenol sulfide (alternately sulphide), see Magnesium long-chain alkyl phenate sulfide (alternately sulphide) (C8-C20) |  |  |  |  | MPS.
Magnesium sulfonate (alternately sulphonate), see Magnesium long-chain alkaryl sulfonate (alternately sulphonate) (C11-C50) |  |  | 71786-47-5 | MSE | MAS.
Maleic anhydride | 11 |  | 108-31-6 | MLA
Maleic anhydride/sodium allylsulphonate copolymer solution | 11 |  |  |  | PHN (CFO/CRL/CRO/CRS/CSO).
Maltitol solution | 0 | 1, 3 | 585-88-6 | MTI
Mango kernel oil, see Oil, edible: Mango kernel |  |  | 90063-86-8 |  | MKO (VEO).
Mercaptobenzothiazol, sodium salt solution | 5 |  | 149-30-4 | SMB | MBT.
2-Mercaptobenzothiazol (in liquid mixture) | 5 |  | 149-30-4 | BTM | SMD.
Mesityl oxide | 18 | 2 | 141-79-7 | MSO
Metam sodium solution | 7 |  | 137-42-8 | MSS | SMD.
Methacrylic acid | 4 |  | 79-41-4 | MAD
Methacrylic acid-Alkoxypoly(alkylene oxide) methacrylate copolymer, sodium salt aqueous solution (45% or less) | 20 | 3 | 79-41-4 | MAQ
Methacrylic resin in ethylene dichloride | 14 |  |  | MRD
Methacrylonitrile | 15 | 2 | 126-98-7 | MET
Methane | 31 |  | 74-82-8 | MTH | LNG.
3-Methoxy-1-butanol | 20 |  | 2517-43-3 | MTX
3-Methoxybutyl acetate | 34 |  | 4435-53-4 | MOA
N-(2-Methoxy-1-methyl ethyl)-2-ethyl-6-methyl chloroacetanilide, see Metolachlor | 34 |  | 51218-45 |  | MCO.
1-Methoxy-2-propyl acetate | 34 |  | 108-65-6 | MXP
Methoxy triglycol, see Poly(2-8)alkylene glycol monoalkyl (C1-C6) ether |  |  | 112-35-6 | MTG | PAG (TGY).
Methyl acetate | 34 |  | 79-20-9 | MTT
Methyl acetoacetate | 34 |  | 105-45-3 | MAE
Methyl acetylene/Propadiene mixture | 30 |  | 74-99-7 | MAP
Methyl acrylate | 14 |  | 96-33-3 | MAM
Methyl alcohol | 20 | 2 | 67-56-1 | MAL
Methylamine solutions (42% or less) | 7 | 3 | 74-89-5 | MSZ
Methyl amyl acetate | 34 |  | 7789-99-3 | MAC
Methyl amyl alcohol | 20 |  | 108-11-2 | MAA | MIC.
Methyl amyl ketone | 18 |  | 110-43-0 | MAK
N-Methylaniline | 9 | 3 | 100-61-8 | MAN
alpha-Methylbenzyl alcohol with Acetophenone (15% or less) | 20 | 3 | 98-85-1 | MBA
Methyl bromide | 36 |  | 74-83-9 | MTB
Methyl butanol, see the Amyl alcohols |  |  | 71-41-0 |  | AAI/AAL/AAN/APM/ASE/IAA.
Methyl butenes, see Pentene (all isomers) |  |  | 109-67-1 |  | PTX (AMW/AMZ/PTE).
Methyl butenol | 20 |  | 137-32-6 | MBL
Methyl tert-butyl ether | 41 | 2 | 1634-04-4 | MBE
Methyl butyl ketone | 18 | 2 | 591-78-6 | MBB | MBK/MIK.
Methyl 3-(3,5 di-tert-butyl-4-hydroxyphenyl) propionate crude melt | 20 |  | 6386-38-5 | MYP
Methylbutynol | 20 |  | 137-32-6 | MBY | MHB.
3-Methyl butyraldehyde | 19 |  | 590-86-3 | MBR
Methyl butyrate | 34 |  | 623-42-7 | MBU
Methyl chloride | 36 |  | 74-87-3 | MTC
Methylcyclohexane | 31 |  | 591-47-9 | MCY
Methylcyclohexanemethanol (crude) | 20 |  | 34885-03-5 | MYH
Methylcyclopentadiene dimer | 30 |  | 26472-00-4 | MCK
Methylcyclopentadienyl manganese tricarbonyl | 0 | 1, 3 | 12108-13-3 | MCT | MCW.
Methylcyclopentadienyl manganese tricarbonyl (60-70%) in mineral oil | 0 | 1 | 12108-13-3 | MCW | MCT.
Methyl diethanolamine | 8 |  | 105-59-9 | MDE | MAB.
Methyl ethyl ketone | 18 | 2 | 78-93-3 | MEK
2-Methyl-6-ethyl aniline | 9 |  | 24549-06-2 | MEN
Methyl formate | 34 |  | 107-31-3 | MFM
N-Methylglucamine solution (70% or less) | 43 | 3 | 6284-40-8 | MGC
2-Methylglutaronitrile | 37 |  | 4553-62-2 | MLN | MGN.
2-Methylglutaronitrile with 2-Ethylsuccinonitrile (12% or less) | 37 | 3 |  | MGE | MLN.
Methyl heptyl ketone | 18 |  | 821-55-6 | MHK
2-Methyl-2-hydroxy-3-butyne | 20 |  | 115-19-5 | MHB | MBY.
Methyl isoamyl ketone, see Methyl amyl ketone |  |  | 110-12-0 | MAJ | MAK.
Methyl isobutyl carbinol, see Methyl amyl alcohol |  |  | 108-11-2 | MIC | MAA.
Methyl isobutyl ketone | 18 |  | 108-10-1 | MIK | MBB/MBK.
Methyl methacrylate | 14 |  | 80-62-6 | MMM
Methylene bridged isobutylenated phenols | 21 |  | 68610-06-0 | MBP
Methylene chloride, see Dichloromethane |  |  | 75-09-2 |  | DCM.
3-Methyl-3-methoxybutanol | 20 |  | 56539-66-3 | MXB
2-Methyl-5-ethyl pyridine | 9 |  | 104-90-5 | MEP
3-Methyl-3-methoxybutyl acetate | 34 |  | 103429-90-9 | MMB
Methyl naphthalene (molten) | 32 | 3 | 90-12-0 | MNA
Methylolurea | 19 |  | 1000-82-4 | MUS
2-Methyl pentane, see Hexane (all isomers) |  |  | 107-83-5 |  | HXS (ALK/HXA/IHA/NHX).
2-Methyl-1,5-pentanediamine | 7 |  | 15520-10-2 | MPM
2-Methyl-1-pentene, see Hexene (all isomers) |  |  | 763-29-1 | MPN | HEX (HXE/HXT/HXU/HXV/MTN).
4-Methyl-1-pentene, see Hexene (all isomers) |  |  | 691-37-2 | MTN | HEX (HXE/HXT/HXU/HXV/MPN).
Methyl tert-pentyl ether, see tert-Amyl methyl ether |  |  | 994-05-8 |  | AYE.
2-Methyl-1,3-propanediol | 20 |  | 78-26-2 | MDL
Methyl propyl ketone | 18 |  | 107-87-9 | MKE
2-Methyl-5-ethylpyridine | 9 |  | 104-90-5 | MEP
Methylpyridine, see the Methylpyridines |  |  |  | MPQ | MPE/MPF/MPR.
2-Methylpyridine | 9 | 3 | 109-06-8 | MPR | MPE/MPF/MPQ.
3-Methylpyridine | 9 | 3 | 109-99-6 | MPE | MPF/MPQ/MPR.
4-Methylpyridine | 9 | 3 | 108-89-4 | MPF | MPE/MPQ/MPR.
N-Methyl-2-pyrrolidone | 9 | 2 | 872-50-4 | MPY
Methyl salicylate | 34 |  | 119-36-8 | MES
alpha-Methylstyrene | 30 |  | 98-83-9 | MSR
3-(Methylthio)propionaldehyde | 19 |  | 3268-49-3 | MTP
Metolachlor | 34 |  | 51218-45-2 | MCO
Microsilica slurry | 43 |  | 69012-64-2 | MOS
Milk | 43 |  | 8049-98-7 | MLK
Mineral spirits | 33 |  | 64475-85-0 | MNS
Mixed C4 Cargoes | 30 |  |  | MIX
Molasses | 20 |  | 68476-78-8 | MOL | MON.
Molasses residue (from fermentation) | 0 | 1 | 94114-07-5 | MON | MOL.
Molybdenum polysulfide (alternately polysulphide) long-chain alkyl dithiocarbamide complex | 0 | 1, 3 | 1317-33-5 | MOP
Monochlorodifluoromethane | 36 |  | 75-45-6 | MCF
Monoethanolamine, see Ethanolamine |  |  | 141-43-5 | MEA
Monoethylamine, see Ethylamine |  |  | 75-04-7 |  | EAM (EAN/EAO).
Monoisopropanolamine, see Isopropanolamine |  |  | 78-96-6 |  | MPA (PLA/PLX).
Morpholine | 7 | 2 | 110-91-8 | MPL
Motor fuel anti-knock compound (containing lead alkyls) | 0 | 1 |  | MFA
MTBE, see Methyl tert-butyl ether |  |  | 1634-04-4 |  | MBE.
Myrcene | 30 |  | 123-35-3 | MRE
Naphtha:
Aromatic | 33 |  | 64742-94-5 | NAR
Coal tar solvent | 33 |  | 8030-30-6 | NCT
Heavy | 33 |  | 64742-94-5 | NAG
Paraffinic | 33 |  | 8012-95-1 | NPF
Petroleum | 33 |  | 64742-94-5 | PTN
Solvent | 33 |  | 64742-94-5 | NSV
Stoddard solvent | 33 |  | 8052-41-3 | NSS
Varnish Makers' and Painters' | 33 |  | 8032-32-4 | NVM
Naphthalene (molten) | 32 | 3 | 91-20-3 | NTM
Naphthalene crude (molten) | 32 |  | 91-20-3 | NCM | NAC/NCD.
Naphthalene still residue | 32 | 2 | 91-20-3 | NSR
Naphthalene sulfonic (alternately sulphonic) acid, sodium salt solution | 34 |  | 85-47-2 | NSB | NSA.
Naphthalene sulfonic (alternately sulphonic) acid-Formaldehyde copolymer, sodium salt solution | 0 | 1 | 85-47-2 | NFS
Naphthenic acid | 4 |  | 1338-24-5 | NTI
Naphthenic acid, sodium salt solution | 43 |  | 61790-13-4 | NTS
Neodecanoic acid | 4 |  | 26896-20-8 | NEA | DCO/NAT.
Nitrating acid (mixture of Sulfuric (alternately Sulphuric) and Nitric acids) | 0 | 1 | 7697-37-2 | NIA
Nitric acid (70% and over) | 3 | 2, 3 | 7697-37-2 | NCE | NAC/NCD.
Nitric acid (less than 70%) | 3 | 2 | 7697-37-2 | NCD | NAC/NCE.
Nitric Acid, fuming, see Nitric acid (70% and over) |  | 1, 2, 3 | 7697-37-2 |  | NCE.
Nitric Acid, red fuming, see Nitric acid (70% and over) |  | 1, 2, 3 | 52583-42-3 |  | NCE.
Nitrilotriacetic acid, trisodium salt solution | 34 | 3 | 139-13-9 | NCA
Nitrobenzene | 42 |  | 98-95-3 | NTB
o-Nitrochlorobenzene, see o-Chloronitrobenzene |  |  | 88-73-3 |  | CNO (CNP).
Nitroethane | 42 |  | 79-24-3 | NTE
Nitroethane (80%)/Nitropropane (20%) | 42 | 2, 3 |  | NNL | NNM/NNO/NPM/NPN/NPP/NTE.
Nitroethane/1-Nitropropane (each 15% or more) mixture | 42 | 2 |  | NNO | NNL/NNM/NPM/NPN/NPP/NTE.
Nitrogen | 0 | 1 | 7727-37-9 | NXX
Nitrophenol (mixed isomers) | 42 |  | 88-75-5 | NPX | NIP/NPH.
o-Nitrophenol (molten) | 0 | 1, 2 | 88-75-5 | NTP | NIP/NPH/NPX.
Nitropropane (60%)/Nitroethane (40%) mixture | 42 |  |  | NNM | NNL/NNO/NPM/NPN/NPP/NTE.
1-or 2-Nitropropane | 42 |  | 108-03-2 | NPM | NPN/NPP.
o- or p-Nitrotoluenes | 42 | 3 | 99-99-0 | NIT | NIE/NTR/NTT.
Nonane (all isomers), see Alkanes (C6-C9) |  |  | 111-84-2 | NAX | ALK (NAN).
Nonanoic acid (all isomers) | 4 |  | 112-05-0 | NNA | NAI/NIN.
Nonanoic/Tridecanoic acid mixture | 4 |  |  | NAT | NAI/NIN/NNA.
Non-edible industrial grade palm oil, see Oil, misc.: Palm, non-edible industrial grade |  |  | 8002-75-3 |  | OPB.
Nonene (all isomers) | 30 | 2 | 124-11-8 | NOO | NNE/NON/OAM/OFX/OFY.
Nonyl acetate | 34 |  | 143-13-5 | NAE
Nonyl alcohol (all isomers) | 20 | 2 | 143-08-8 | NNS | ALR/DBC/NNI/NNN.
Nonylbenzene, see Alkyl (C9+) benzenes |  |  | 1081-77-2 |  | AKB.
Non-noxious Liquid Substance, (12) n.o.s. Cat OS | 0 | 1 |  | NOL
Nonyl methacrylate monomer | 14 |  | 2696-43-7 | NMA
Nonyl phenol | 21 |  | 25154-52-3 | NNP
Nonyl phenol poly(4+)ethoxylate, see Alkyl (C7-C11) phenol poly(4-12) ethoxylate |  |  | 9016-45-9 | NPE | APN.
Nonyl phenol sulfide (alternately sulphide) (90% or less) solution, see Alkyl (C8-C40) phenol sulfide (alternately sulphide) |  |  | 34992-00-2 |  | AKS (NPS).
Nonylphenol (48-62%)/Phenol (42-48%)/Dinonylphenol (1-10%) mixture | 21 |  |  | NYL
Noxious Liquid Substance, NF, (1) n.o.s. (“trade name” contains “principal components”) Cat X | 0 | 1
Noxious Liquid Substance, F, (2) n.o.s. (“trade name” contains “principal components”) Cat X | 0 | 1
Noxious Liquid Substance, NF, (3) n.o.s. (“trade name” contains “principal components”) Cat X | 0 | 1
Noxious Liquid Substance, F, (4) n.o.s. (“trade name” contains “principal components”) Cat X | 0 | 1
Noxious Liquid Substance, NF, (5) n.o.s. (“trade name” contains “principal components”) Cat Y | 0 | 1
Noxious Liquid Substance, F, (6) n.o.s. (“trade name” contains “principal components”) Cat Y | 0 | 1
Noxious Liquid Substance, NF, (7) n.o.s. (“trade name” contains “principal components”) Cat Y | 0 | 1
Noxious Liquid Substance, F, (8) n.o.s. (“trade name” contains “principal components”) Cat Y | 0 | 1
Noxious Liquid Substance, NF, (9) n.o.s. (“trade name” contains “principal components”) Cat Z | 0 | 1
Noxious Liquid Substance, F, (10) n.o.s. (“trade name” contains “principal components”) Cat Z | 0 | 1
Noxious Liquid Substance, (11) n.o.s. (“trade name” contains “principal components”) Cat Z | 0 | 1
Non-noxious Liquid Substance, (12) n.o.s. (“trade name” contains “principal components”) Cat OS | 0 | 1 |  | NOL
Nutmeg butter oil, see Oil, edible: Nutmeg butter |  |  |  |  | ONB (VEO).
1-Octadecene, see the olefin or alpha-olefin entries |  |  | 112-88-9 |  | OAM/OFZ.
1-Octadecanol, see Stearyl alcohol |  |  | 112-92-5 |  | SYL (ALY/ASY).
Octadecenoamide solution | 10 |  | 3322-62-1 | ODD
Octadecenol (oleyl alcohol), see Alcohols (C13+) |  |  | 143-28-2 |  | ALY (AYL/ASY/OYL).
Octamethylcyclotetrasiloxane | 34 | 3 | 556-67-2 | OSA
Octane (all isomers), see Alkanes (C6-C9) |  |  | 111-65-9 | OAX | ALK (IOO/OAN).
Octanoic acid (all isomers) | 4 |  | 124-07-2 | OAY | OAA/EHO.
Octanol (all isomers) | 20 | 2 | 111-87-5 | OCX | EHX/OPA/OTA.
Octene (all isomers) | 30 | 2 | 111-66-0 | OTX | OAM/OFC/OFY/OFW/OTE.
n-Octyl acetate | 34 |  | 112-14-1 | OAF | OAE.
Octyl alcohol, see Octanol (all isomers) |  | 2 | 111-87-5 |  | OCX (EHX/IOA/OTA).
Octyl aldehydes | 19 |  | 124-13-0 | OAL | EHA/IOC//OLX.
Octylbenzenes, see Alkyl (C5-C8) benzenes |  |  | 2189-60-8 |  | AKD.
Octyl decyl adipate | 34 |  | 110-29-2 | ODA
n-Octyl mercaptan | 0 |  | 111-88-6 | OME
Octyl nitrates (all isomers), see Alkyl (C7-C9) nitrates |  | 2 | 629-39-0 | ONE | AKN.
Octyl phenol | 21 |  | 27193-28-8 | OPH
Octyl phthalate, see Dioctyl phthalate |  |  | 117-84-0 |  | DAH (DIE/DIO/DLK/DOP).
Offshore contaminated bulk liquid P | 0 |  |  | OBP
Offshore contaminated bulk liquid S | 0 |  |  | OBS
Oil, edible:
Beechnut | 34 |  | 481-39-0 | OBN | VEO.
Castor | 34 |  | 8001-79-4 | OCA | VEO.
Cocoa butter | 34 |  | 8002-31-1 | OCB | VEO.
Coconut | 34 | 2 | 8001-31-8 | OCC | VEO.
Cod liver | 34 |  | 8001-69-2 | OCL | AFN.
Corn | 34 |  | 8001-30-7 | OCO | VEO.
Cottonseed | 34 |  | 8001-29-4 | OCS | VEO.
Fish | 34 | 2 | 8016-13-5 | OFS | AFN.
Grape seed | 34 |  | 8024-22-4 |
Groundnut | 34 |  | 8002-03-7 | OGN | VEO.
Hazelnut | 34 |  | 185630-72-2 | OHN | VEO.
Illipe | 34 |  | 91770-65-9 | ILO | VEO.
Lard | 34 |  | 61789-99-9 | OLD | AFN.
Maize, see Oil, edible: Corn |  |  | 8001-30-7 |  | OCO (VEO).
Mango kernel | 34 | 3 | 90063-86-8 | MKO
Nutmeg butter | 34 |  | 8008-45-5 | ONB | VEO.
Olive | 34 |  | 8001-25-0 | OOL | VEO.
Palm | 34 | 2, 3 | 8002-75-3 | OPM | VEO.
Palm kernel | 34 |  | 8023-79-8 | OPO | VEO.
Palm kernel olein | 34 |  | 93334-39-5 | PKO | VEO.
Palm kernel stearin | 34 |  | 91079-14-0 | PKS | VEO.
Palm mid fraction | 34 |  | 91079-14-0 | PFM | VEO.
Palm olein | 34 |  | 93334-39-5 | PON | VEO.
Palm stearin | 34 |  | 91079-14-0 | PMS | VEO.
Peanut | 34 |  | 8002-03-7 | OPN | VEO.
Poppy | 34 |  | 8002-11-7 | OPY | VEO.
Poppy seed | 34 |  | 8002-11-7 | OPS | VEO.
Raisin seed | 34 |  | 8024-22-4 | ORA | VEO.
Rapeseed | 34 |  | 8002-13-9 | ORP | VEO.
Rapeseed (low erucic acid containing less than 4% free fatty acids) | 34 | 3 | 8002-13-9 | ORO | ORP/VEO.
Rice bran | 34 |  | 68553-81-1 | ORB | VEO.
Safflower | 34 |  | 8001-23-8 | OSF | VEO.
Salad | 34 |  | 9083-41-4 | OSL | VEO.
Sesame | 34 |  | 8008-74-0 | OSS | VEO.
Shea butter | 34 |  | 194043-92-0 | OSH | VEO.
Soyabean | 34 | 2 | 8001-22-7 | OSB | VEO.
Sunflower, see Oil, edible: Sunflower seed |  |  | 8001-21-6 |  | OSN (VEO).
Sunflower seed | 34 |  | 8001-21-6 | OSN | VEO.
Tucum | 34 |  | 356065-49-1 | OTC | VEO.
Vegetable | 34 |  | 9083-41-4 | OVG | VEO.
Walnut | 34 |  | 8024-09-7 | OWN | VEO.
Oil, fuel:
No. 1 | 33 |  | 8008-20-6 | OON
No. 1-D | 33 |  |  | OOD
No. 2 | 33 |  | 68476-30-2 | OTW
No. 2-D | 33 |  |  | OTD
No. 4 | 33 |  | 68553-00-4 | OFR
No. 5 | 33 |  | 70892-11-4 | OFV
No. 6 | 33 |  | 68553-00-4 | OSX
Oil, misc.:
Acid mixture from soyabean, corn (maize) and sunflower oil refining | 34 |  |  | AOM
Aliphatic | 33 |  | 8052-41-3 | OML
Animal | 34 |  | 68991-19-5 | OMA | AFN.
Aromatic | 33 |  | 6472-95-6 | OMR
Camelina | 34 |  | 68956-68-3 | OCI
Cashew nut shell (untreated) | 34 |  | 8007-24-7 | OCN
Clarified | 33 |  | 64741-62-4 | OCF
Coal | 33 |  | 8008-2-06 | OMC
Coconut fatty acid | 34 | 2 | 61788-47-4 | CFA
Coconut, fatty acid methyl ester | 34 |  | 61788-59-8 | OCM
Cotton seed oil, fatty acid | 34 |  | 8001-29-4 | CFY
Crude | 33 |  | 8002-05-9 | OFA
Diesel | 33 |  | 68334-30-5 | ODS
Disulfide (alternately Disulphide) | 0 | 1 | 624-92-0 | ODI
Gas, cracked | 33 |  | 8006-61-9 | GOC
Gas, high pour | 33 |  | 8006-61-9 | OGP
Gas, low pour | 33 |  | 8006-61-9 | OGL
Gas, low sulfur (alternately sulphur) | 33 |  | 8006-61-9 | OGS
Heartcut distillate | 33 |  | 68131-77-1 | OHD
Jatropha | 34 | 3 | 88-6-7 | JTO
Lanolin | 34 |  | 8006-54-0 | OLL | AFN.
Linseed | 33 |  | 8001-26-1 | OLS
Lubricating | 33 | 2 | 93572-43-1 | OLB
Mineral | 33 |  | 8042-47-5 | OMN
Mineral seal | 33 |  | 64742-46-7 | OMS
Motor | 33 |  |  | OMT
Neatsfoot | 33 |  | 8002-64-0 | ONF | AFN.
Oiticica | 34 |  | 8016-35-1 | OOI
Palm acid | 34 |  | 8002-75-3 | PLM
Palm fatty acid distillate | 34 |  | 68440-15-3 | PFD
Palm oil, fatty acid methyl ester | 34 |  | 91051-34-2 | OPE
Palm kernel acid | 34 |  | 101403-98 | OPK
Palm kernel fatty acid distillate | 34 |  | 68440-15-3 | PNG
Palm, non-edible industrial grade | 34 |  | 8002-75-3 | OPB
Penetrating | 33 |  | 64742-95-6 | OPT
Perilla | 34 |  | 68132-21-8 | OPR
Pilchard | 34 |  | 8016-13-5 | OPL | AFN.
Pine | 33 |  | 8002-09-3 | OPI | PNL.
Rapeseed fatty acid methyl esters | 34 | 3 | 73891-99-3 | ORP
Residual | 33 |  | 68476-33-5 | ORL
Resin, distilled | 30 | 3 | 8016-37-3 | ORR
Road | 33 |  | 8052-42-4 | ORD
Rosin | 33 |  | 8002-16-2 | ORN
Seal | 34 |  | 64742-46-7 | OSE
Soapstock | 34 |  | 68952-95-4 | OIS
Soyabean (epoxidized) | 34 |  | 8013-07-8 |  | OSC/EVO.
Soyabean fatty acid methyl ester | 34 |  | 68919-53-9 |  | OST.
Spindle | 33 |  | 64742-54-7 | OSD
Tall | 34 |  | 8002-26-4 | OTL | OTI/OTJ.
Tall, crude | 34 | 2 | 8002-26-4 | OTI | OTJ/OTL.
Tall, distilled | 34 | 2 | 8002-26-4 | OTJ | OTI/OTL.
Tall, fatty acid | 34 | 2 | 61790-12-3 | OTT
Tall fatty acid (resin acids less than 20%) | 34 | 2 | 61790-12-3 | OTK | OTT.
Tall pitch | 34 |  | 08016-81-7 | OTP
Transformer | 33 |  | 64742-53-6 | OTF
Tung | 34 |  | 8001-20-5 | OTG
Turbine | 33 |  |  | OTB
Used cooking oil | 34 |  |  | OUC | VEO.
Used cooking oil (triglycerides, C16-C18, and C18 unsaturated) | 34 |  |  | OUT | VEO.
Vacuum gas oil | 33 |  | 64741-57-7 | OVC
Oleamide solution, see Octadecenoamide solution |  |  | 301-02-0 |  | ODD.
Olefin-Alkyl ester copolymer (molecular weight 2000+) | 30 |  |  | OCP
Olefin mixture (C7-C9) C8 rich, stabilized | 30 | 3 | 25339-56-4 | OFC | OFW/OFY/OFX.
Olefin mixtures (C5-C7) | 30 | 3 | 25264-93-1 | OFY | OAM/OFC/OFW/OFX/OFZ.
Olefin mixtures (C5-C15) | 30 | 3 | 25264-93-1 | OFY | OAM/OFC/OFW/OFX/OFZ.
Olefins (C13+, all isomers) | 30 |  | 85535-87-1 | OFZ | OAM/OFW.
alpha-Olefins (C6-C18) mixtures | 30 |  | 592-41-6 | OAM | OFC/OFW/OFX/OFY/OFZ.
Oleic acid | 4 |  | 112-80-1 | OLA
Oleum | 0 | 1, 2 | 8014-95-7 | OLM | SAC/SFX.
Oleyl alcohol, see Alcohols (C13+) |  |  | 143-28-2 | OYL | ALY (ASY).
Oleylamine | 7 |  | 112-90-3 | OLY
Olive oil, see Oil, edible: Olive |  |  | 8001-25-0 |  | OOL (VEO).
Orange juice (concentrated) | 0 | 1, 3 | 68514-75-0 | OJC | OJN.
Orange juice (not concentrated) | 0 | 1, 3 | 68514-75-0 | OJN | OJC.
Organomolybdenum amide | 10 |  | 445409-27-8 | OGA
ORIMULSION, see Asphalt emulsion |  |  |  |  | ASQ.
Oxyalkylated alkyl phenol formaldehyde | 33 |  | 9003-35-4 | OPF
Oxygenated aliphatic hydrocarbon mixture | 0 | 1, 3 |  | OAH
Palm acid oil, see Oil, misc.: Palm acid |  | 3 | 68440-15-3 |  | PLM.
Palm fatty acid distillate, see Oil, misc.: Palm fatty acid distillate |  | 3 |  |  | PFD.
Palm kernel acid oil, see Oil, misc.: Palm kernel acid |  |  | 101403-98 |  | PNO.
Palm kernel acid oil, methyl ester, see Oil, misc.: Palm kernel acid, methyl ester |  |  |  |  | PNF.
Palm kernel oil, see Oil, edible: Palm kernel |  |  | 8023-79-8 |  | OPO (VEO).
Palm kernel oil fatty acid distillate, see Oil, misc.: Palm kernel fatty acid distillate |  |  |  |  | PNG.
Palm kernel olein, see Oil, edible: Palm kernel olein |  | 3 | 93334-39-5 |  | PKO (VEO).
Palm kernel stearin, see Oil, edible: Palm kernel stearin |  | 3 |  |  | PKS (VEO).
Palm mid fraction, see Oil, edible: Palm mid fraction |  | 3 | 91079-14-0 |  | PFM (VEO).
Palm oil, see Oil, edible: Palm |  | 2, 3 | 8002-75-3 | OPM | VEO/OPE.
Palm oil fatty acid methyl ester, see Oil, misc.: Palm fatty acid methyl ester |  | 3 |  |  | OPE.
Palm olein, see Oil, edible: Palm olein |  | 3 | 93334-39-5 |  | PON (VEO).
Palm stearin, see Oil, edible: Palm stearin |  |  | 91079-14-0 |  | PMS (VEO).
Parachlorobenzotrifluoride | 32 |  | 98-56-6 | PBF
Paraffin wax, see Waxes: Paraffin |  | 3 | 8002-74-2 |  | WPF.
n-Paraffins (C10-C20), see n-Alkanes (C10+) all isomers |  |  |  | PFN | ALJ.
Paraldehyde | 19 |  | 123-63-7 | PDH
Paraldehyde-Ammonia reaction product | 9 |  |  | PRB
Peanut, see Oil, edible: Peanut |  |  | 8002-03-7 |  | OPN (VEO).
Pentachloroethane | 36 |  | 76-01-7 | PCE
Pentacosa (oxypropane-2,3-diyl)s | 20 |  | 923-61-5 | POY
Pentadecanol, see Alcohols (C13+) |  |  | 629-76-5 | PDC | ALY.
1,3-Pentadiene | 30 |  | 1574-41-0 | PDE | PDN.
1,3-Pentadiene (greater than 50%), Cyclopentene and isomers, mixtures | 30 | 3 | 1574-41-0 | PMM
Pentaethylene glycol, see Polyethylene glycols |  |  | 4792-15-8 |  | PEG.
Pentaethylene glycol methyl ether, see Poly(2-8)alkylene glycol monoalkyl (C1-C6) ether |  |  | 23778-52-1 |  | PAG.
Pentaethylenehexamine | 7 |  | 4067-16-7 | PEN
Pentaethylenehexamine/Tetraethylenepentamine mixture | 7 |  |  | PEP
Pentane (all isomers) | 31 |  | 109-66-0 | PTY | IPT/PTA.
Pentanoic acid | 4 |  | 109-52-4 | POC.
n-Pentanoic acid (64%)/2-Methyl butyric acid (36%) mixture | 4 |  |  | POJ | POC.
Pentasodium salt of Diethylenetriaminepentaacetic acid solution, see Diethylenetriaminepentaacetic acid, pentasodium salt solution |  |  | 140-01-2 |  | DYS.
Pentene (all isomers) | 30 |  | 109-67-1 | PTX | PTE.
Pentyl aldehyde | 19 |  | 110-62-3 | PYL
n-Pentyl propionate | 34 |  | 624-54-4 | PPE
Perchloroethylene | 36 | 2 | 127-18-4 | PER | TTE.
Petrolatum | 33 |  | 8009-03-8 | PTL
Phenol | 21 | 2 | 108-95-2 | PHN | PNS.
Phenol solutions (2% or less) | 43 |  | 108-95-2 | PNS | PHN.
1-Phenyl-1-xylyl ethane | 32 |  | 6196-96-8 | PXE
Phosphate esters | 34 |  | 68130-47-2 | PZE
Phosphate esters, alkyl (C12-C14) amine | 7 |  |  | PEA
[[(Phosphonomethyl)imino]bis[ethylenenitrilobis(methylene)]]tetrakisphosphonic acid, ammonium salt solution (60% or less) | 3 |  |  | PES
Phosphoric acid | 1 | 2 | 7664-38-2 | PAC
Phosphorus, yellow or white | 0 | 1 | 7723-14-0 | PPW | PPB/PPR.
Phosphosulfurized (alternately Phosphosulphurized) bicycle terpene | 0 | 1 |  | PBT
Phthalate based polyester polyol | 0 | 1, 2 | 32472-85-8 | PBE
Phthalic anhydride (molten) | 11 |  | 85-44-9 | PAN
PIB, see Poly(4+)isobutylene (molecular weight >224). |  |  | 9003-27-4
alpha-Pinene | 30 |  | 7785-26-4 | PIO | PIB/PIN.
beta-Pinene | 30 |  | 127-91 | PIP | PIN/PIO.
Pine oil, see Oil, misc.: Pine |  |  | 8002-09-3 | PNL | OPI.
Piperazine (70% or less) | 7 | 3 | 110-85-0 | PIZ | PPB/PPZ.
Piperazine (crude) | 7 |  | 110-85-0 | PZC | PPZ/PIZ.
Piperazine, 68% solution | 7 |  | 110-85-0
Polyacrylic acid solution (40% or less) | 43 |  | 9003-01-4 | PYA
Polyalkenyl succinic anhydride amine | 7 |  | 108-30-5 | PSN
Polyalkyl acrylate | 14 |  | 9003-21-8 | PAY
Polyalkyl (C18-C22) acrylate in Xylene | 14 |  |  | PIX
Polyalkylalkenaminesuccinimide, molybdenum oxysulfide (alternately oxysulphide) | 0 | 3 |  | PSO
Polyalkylene glycols/Polyalkylene glycol monoalkyl ethers mixtures | 40 |  | 9038-95-3 | PPX
Polyalkylene glycol butyl ether, see Poly(2-8)alkylene glycol monoalkyl (C1-C6) ether |  |  |  | PGB | PAG.
Poly(2-8)alkylene glycol monoalkyl (C1-C6) ether | 40 | 2 |  | PAG
Including:
Diethylene glycol butyl ether | 40 |  | 112-34-5
Diethylene glycol ethyl ether | 40 |  | 111-90-0
Diethylene glycol n-hexyl ether | 40 |  | 112-59-4
Diethylene glycol methyl ether | 40 |  | 111-77-3
Diethylene glycol propyl ether | 40 |  | 6881-94-3
Dipropylene glycol butyl ether | 40 |  | 112-34-5
Dipropylene glycol methyl ether | 40 |  | 34590-94-8
Polyalkylene glycol butyl ether | 40 |  | 111-76-2
Polyethylene glycol monoalkyl ether | 40 |  | 111-80-5
Polypropylene glycol methyl ether | 40 |  | 34590-94-8
Tetraethylene glycol methyl ether | 40 |  | 23783-42-8
Triethylene glycol butyl ether | 40 |  | 143-22-6
Triethylene glycol ethyl ether | 40 |  | 112-50-5
Triethylene glycol methyl ether | 40 |  | 112-35-6
Tripropylene glycol methyl ether | 40 |  | 25498-49-1
Poly(2-8)alkylene glycol monoalkyl (C1-C6) ether acetate | 34 |  |  | PAF
Including:
Diethylene glycol butyl ether acetate | 34 |  | 124-17-4
Diethylene glycol ethyl ether acetate | 34 |  | 112-15-2
Diethylene glycol methyl ether acetate | 34 |  | 110-49-6
Polyalkylene oxide polyol | 20 |  |  | PAO
Polyalkylene glycols/Polyalkylene glycol monoalkyl ethers mixtures | 40 |  |  | PPX
Polyalkylene oxide polyol | 20 |  |  | PAO
Polyalkyl (C10-C20) methacrylate | 14 |  | 221-657-1 | PMT | PYY.
Polyalkyl methacrylate in mineral oil | 14 |  |  | PYY | PMT.
Polyalkyl (C10-C18) methacrylate/Ethylene-propylene copolymer mixture | 14 |  |  | PEM
Polyalpha olefins | 31 |  | 115-07-1 | PYO
Polyaluminum (alternately Polyaluminium) chloride solution | 1 |  | 1327-41-9 | PLS
Polybutadiene, hydroxyl terminated | 20 |  | 69102-90-5 | PHT
Polybutene | 33 |  | 9003-29-6 | PLB
Polybutenyl succinimide | 10 |  | 84605-20-9 | PBS
Polycarboxylic ester (C9+), see Ditridecyl adipate |  |  | 16958-92-2 |  | DTY.
Poly(2+)cyclic aromatics | 32 |  | 91-20-3 | PCA
Polydimethylsiloxane, see Dimethylpolysiloxane |  |  | 9016-00-6 |  | DMP.
Polyether, borated | 41 |  |  | PED
Polyether (molecular weight 1350+) | 41 |  |  | PYR
Polyether polyols | 41 |  | 25214-63-5 | PEO
Polyethylene glycol | 40 |  | 25322-68-3 | PEG
Polyethylene glycol dimethyl ether | 40 |  | 24991-55-7 | PEF
Poly(ethylene glycol) methylbutenyl ether (molecular weight >1000) | 40 |  |  | PBN
Polyethylene glycol monoalkyl ether, see Poly(2-8)alkylene glycol monoalkyl (C1-C6) ether |  |  | 111-77-3 | PEE | PAG.
Polyethylene polyamines | 7 | 2 | 109-89-7 | PEB | PEY.
Polyethylene polyamines (more than 50% C5-C20 Paraffin oil) | 7 | 2, 3 |  | PEY | PEB.
Polyferric sulfate (alternately sulphate) solution | 34 |  | 51434-22-1 | PSS
Polyglycerine/Sodium salts solution (containing less than 3% Sodium hydroxide) | 20 | 2 |  | PGT | PGS.
Polyglycerol | 20 |  | 25618-55-7 | PGL
Poly(iminoethylene)-graft-N-poly(ethyleneoxy) solution (90% or less) | 7 | 3 |  | PIG | PIM.
Polyisobutenamine in aliphatic (C10-C14) solvent | 7 | 2 |  | PIB | PIA.
(Polyisobutene) amino products in aliphatic hydrocarbons | 7 | 3
Polyisobutenyl anhydride adduct | 11 |  |  | PBA
Polyisobutenyl succinimide | 10 |  | 84605-20-9 | PIS
Poly(4+)isobutylene (molecular weight >224) | 30 | 3 | 9003-27-4 | PIL
Polyisobutylene (molecular weight ≤224) | 30 | 3 | 9003-27-4 | PIL
Polyisobutylene succinic anhydride | 11 |  | 67762-77-0 | PYS
Polymerized esters | 34 |  |  | PYM
Polymethylene polyphenyl isocyanate | 12 | 2 | 9016-87-9 | PPI
Polymethylsiloxane | 34 |  | 9006-65-9 | PMX
Polyolefin (molecular weight 300+) | 33 |  |  | PMW | PLF.
Polyolefin amide alkeneamine (C17+) | 33 |  |  | POH | POD.
Polyolefin amide alkeneamine (C28+), see Polyolefin amide alkenamine (C17+) |  |  |  | POD | POH.
Polyolefin amide alkeneamine borate (C28-C250) | 33 |  | 134758-95-5 | PAB
Polyolefin amide alkeneamine in mineral oil | 33 |  |  | PLK
Polyolefin amide alkeneamine/Molybdenum oxysulfide (alternately oxysulphide) mixture | 7 |  |  | PMO
Polyolefin amide alkeneamine polyol | 20 |  |  | PAP
Polyolefin amine (C17+) | 7 |  | 98761-78-5 | POG
Polyolefinamine (C28-C250) | 33 |  |  | POM
Polyolefinamine in alkyl(C2-C4) benzenes | 32 |  |  | POF | POR.
Polyolefinamine in aromatic solvent | 32 | 3 |  | POR | POF.
Polyolefin aminoester salts (molecular weight 2000+) | 34 |  |  | PAE
Polyolefin anhydride | 11 |  | 9006-26-2 | PAR
Polyolefin ester (C28-C250) | 34 |  |  | POS
Polyolefin in mineral oil | 30 |  |  | PLF | PMW.
Polyolefin phenolic amine (C28-C250) | 9 |  |  | PPH
Polyolefin phosphorosulfide (alternately phosphorosulphide), barium derivative (C28-C250) | 34 |  |  | PPS
Poly (oxyalkylene) alkenyl ether (molecular weight >1000) | 41 | 3 | 9005-00-9 | PXY
Polyoxybutylene alcohol | 41 |  | 9002-92-0 | PXA
Poly(20)oxyethylene sorbitan monooleate | 34 |  | 9005-65-6 | PSM
Polyoxypropylenediamine (molecular weight 2000) | 7 |  |  | PYD
Poly(5+) propylene | 30 |  | 9003-07-0 | PLQ | PLP.
Polypropylene glycol | 40 | 2 | 25322-69-4 | PGC
Polypropylene glycol methyl ether, see Poly(2-8)alkylene glycol monoalkyl (C1-C6) ether |  |  | 107-98-2 | PGM | PAG.
Polysiloxane | 34 |  | 63148-53-8 | PSX
Polysiloxane/White spirit, low (15-20%) aromatic | 34 |  |  | PWS
Poly(tetramethylene ether) glycols (molecular weight 950-1050), see alpha-hydro-omega-Hydroxytetradeca(oxytetramethylene) |  |  | 25190-06-1 | PYU | HTO.
Polytetramethylene ether glycol | 40 |  | 25190-06-1 | PYT | HTO/PYU/PYS.
Poppy seed, see Oil, edible: Poppy seed |  |  | 8002-11-7 |  | OPS (VEO).
Poppy, see Oil, edible: Poppy |  |  |  |  | OPY (VEO).
Potassium chloride solution | 43 |  | 7447-40-7 | PCU | PCD/PSD.
Potassium chloride solution (10% or more) | 43 |  | 7447-40-7 | PCS | PCD/PCU.
Potassium chloride solution (less than 26%) | 43 |  | 7447-40-7 | PSD | CLM/DRL/PCS/PCU.
Potassium formate solutions | 34 |  | 590-29-4 | PFR
Potassium hydroxide solution, see Caustic potash solution |  | 2 | 1310-58-3 |  | CPS/PTH.
Potassium oleate | 34 |  | 143-18-0 | POE
Potassium polysulfide (alternately polysulphide)/Potassium thiosulfide (alternately thiosulphide) solution (41% or less) | 0 | 1 |  | PYP | PSF/PTF.
Potassium salt of polyolefin acid | 34 |  |  | PSP
Potassium thiosulfate (alternately thiosulphate) (50% or less) | 43 |  | 10294-66-3 | PTF
Propane | 31 |  | 74-98-6 | PRP | LPG.
iso-Propanolamine, see Isopropanolamine |  |  | 78-96-6 |  | MPA (PAX/PLA).
n-Propanolamine | 8 |  | 107-10-8 | PLA | MPA/PAX.
2-Propene-1-aminium, N,N-dimethyl-N-2-propenyl-, chloride, homopolymer solution | 0 | 1, 3 |  | PLN
Propionaldehyde | 19 |  | 123-38-6 | PAD
beta-Propiolactone | 18 | 3 | 57-57-8 | PLT
Propionic acid | 4 |  | 79-09-4 | PNA
Propionic anhydride | 11 |  | 123-62-6 | PAH
Propionitrile | 37 |  | 107-12-0 | PCN
n-Propoxypropanol, see Propylene glycol monoalkyl ether |  |  | 1569-01-3 | PXP | PGE.
n-Propyl acetate | 34 |  | 109-60-4 | PAT | IAC.
n-Propyl alcohol | 20 | 2 | 71-23-8 | PAL | IPA.
n-Propyl chloride | 36 |  | 540-54-5 | PRC
Propyl ether | 41 |  | 557-17-5 |  | IPE/PRE.
n-Propylamine | 7 |  | 107-10-8 | PRA | IPO/IPP/IPQ.
iso-Propylamine solution, see Isopropylamine (70% or less) solution |  |  | 75-31-0 |  | IPQ (IPO/IPP/PRA).
Propylbenzenes (all isomers), see Alkyl (C3-C4) benzenes |  |  | 103-65-1 | PBY | AKC (CUM/PBZ).
iso-Propyl cyclohexane, see Isopropylcyclohexane |  |  | 696-29-7 |  | IPX.
Propylene | 30 |  | 115-07-1 | PPL
Propylene-Butylene copolymer | 30 |  | 29160-13-2 | PBP
Propylene carbonate | 34 |  | 108-32-7 | PLC
Propylene dimer | 30 |  | 26824-72-2 | PDR
Propylene glycol | 20 | 2 | 57-55-6 | PPG
Propylene glycol n-butyl ether, see Propylene glycol monoalkyl ether |  |  | 5131-66-8 | PGD | PGE.
Propylene glycol ethyl ether, see Propylene glycol monoalkyl ether |  |  | 1569-02-4 | PGY | PGE.
Propylene glycol methyl ether, see Propylene glycol monoalkyl ether |  | 2 | 107-98-2 | PME | PGE.
Propylene glycol methyl ether acetate | 34 | 2 | 108-65-6 | PGN
Propylene glycol monoalkyl ether | 40 |  |  | PGE
Including:
n-Propoxypropanol | 40 |  | 30136-13-1
Propylene glycol n-butyl ether | 40 |  | 5131-66-8
Propylene glycol ethyl ether | 40 |  | 1569-02-4
Propylene glycol methyl ether | 40 |  | 107-98-2
Propylene glycol propyl ether | 40 |  | 1569-01-3
Propylene glycol phenyl ether | 40 |  | 770-35-4 | PGP
Propylene glycol propyl ether, see Propylene glycol monoalkyl ether |  |  | 1569-01-3 |  | PGE.
Propylene oxide | 16 |  | 75-56-9 | POX
Propylene tetramer | 30 |  | 6842-15-5 | PTT
Propylene trimer | 30 |  | 13987-01-4 | PTR
Propylene/Propane/MAPP gas mixture | 30 | 2 |  | PPM
Pseudocumene, see Trimethylbenzene (all isomers) |  |  | 95-63-6 |  | TMB/TMD/TME/TRE.
Pyridine | 9 |  | 110-86-1 | PRD
Pyridine bases, see Paraldehyde-Ammonia reaction product |  |  |  |  | PRB.
Pyrolysis gasoline (containing Benzene) | 32 | 3 | 68477-58-7 | PYG | GPY.
Rapeseed oil (low erucic acid containing less than 4% free fatty acids), see Oil, edible: Rapeseed (low erucic acid containing less than 4% free fatty acids) |  | 3 | 8002-13-9 |  | ORO (VEO).
Rapeseed oil fatty acid methyl esters, see Oil, misc.: Rapeseed fatty acid methyl esters |  | 3 | 73891-99-3 |  | RSO.
Rapeseed oil, see Oil, edible: Rapeseed |  |  | 8002-13-9 |  | ORO (VEO).
Refrigerant gases | 0 | 1 |  | RFG
Resin oil, distilled, see Oil, misc.: Resin, distilled |  | 3 |  |  | ORR (ORS).
Rice bran oil, see Oil, edible: Rice bran |  |  | 68553-81-1 |  | ORB.
Rosin soap (disproportionated) solution | 43 |  | 61790-50-9 | RSP
Rosin, see Oil, misc.: Rosin |  |  | 8050-09-7 |  | ORN.
Rum, see Alcoholic beverages, n.o.s. |  |  | 64-17-5 |  | ABV.
Safflower oil, see Oil, edible: Safflower |  |  | 8001-23-8 |  | OSF (VEO).
Sewage sludge | 43 |  |  | SWS
Shea butter, see Oil, edible: Shea butter |  | 3 | 194043-92-0 |  | OSH (VEO).
Silica slurry | 43 |  | 69012-64-2 | SLC
Siloxanes | 34 |  | 9011-19-2 | SLX
Sludge, treated | 43 |  |  | SWA
Sodium acetate solutions | 34 |  | 127-09-3 | SAN
Sodium acetate, Glycol, Water mixture (containing 1% or less Sodium hydroxide) (if non-flammable or non-combustible) | 5 | 2 |  | SAY | SAO/SAP/SAQ/SAY.
Sodium acetate, Glycol, Water mixture (containing Sodium hydroxide) | 5 |  |  | SAQ | SAO/SAP/SAW/SAY.
Sodium acetate, Glycol, Water mixture (not containing Sodium hydroxide) | 34 | 2 |  | SAW | SAO/SAP/SAQ/SAY.
Sodium alkyl (C14-C17) sulfonates (alternately sulphonates) (60-65% solution) | 34 |  |  | SSU | AKA/AKE.
Sodium aluminate solution | 5 |  | 11138-49-1 | SAV | SAU.
Sodium aluminate solution (45% or less) | 5 |  | 11138-49-1 | SAU | SAV.
Sodium aluminosilicate slurry | 34 |  | 1344-00-9 | SLR
Sodium benzoate | 34 |  | 532-32-1 | SBN | SBM.
Sodium bicarbonate solution (less than 10%) | 34 | 3 | 144-55-8 | SBC
Sodium borohydride (15% or less)/Sodium hydroxide solution | 5 |  |  | SBX | CSS/SBH/SBI/SHD.
Sodium bromide solution (less than 50%) | 43 | 3 | 7647-15-6 | SBL | SBR.
Sodium carbonate solution | 5 |  | 497-19-8 | SCE
Sodium chlorate solution (50% or less) | 0 | 1, 2 | 7775-09 | SDD | SDC.
Sodium cyanide solution | 5 |  | 143-33-9 | SCO | SCN/SCS.
Sodium dichromate solution (70% or less) | 0 | 1, 2 | 7789-12-0 | SDL | SCR.
Sodium dimethyl naphthalene sulfonate solution, see Dimethyl naphthalene sulfonic (alternately sulphonic) acid, sodium salt solution |  |  | 532-02-5 |  | DNS.
Sodium hydrogen sulfide (alternately sulphide) (6% or less)/Sodium carbonate (3% or less) solution | 0 | 1, 2, 3 |  | SSS | SCE/SHW.
Sodium hydrogen sulfite (alternately sulphite) solution (45% or less) | 43 |  | 7631-90-5 | SHY | SHX.
Sodium hydrosulfide (alternately hydrosulphide)/Ammonium sulfide (alternately sulphide) solution | 5 | 2 |  | SSA | ASF/ASS.
Sodium hydrosulfide (alternately hydrosulphide) solution (45% or less) | 5 | 2 | 16721-80-5 | SHR
Sodium hydroxide solution, see Caustic soda solution |  | 2 | 1310-73-2 |  | CSS (SHD).
Sodium hypochlorite solution (15% or less) | 5 |  | 7681-52-9 | SHP | SHC/SHQ.
Sodium hypochlorite solution (20% or less) | 5 |  | 7681-52-9 | SHQ | SHC/SHP.
Sodium lignosulfonate (alternately lignosulphonate) solution | 43 |  | 8061-51-6 | SLG | LNL.
Sodium long-chain alkyl salicylate (C13+) | 34 |  | 84539-60-6 | SLS
Sodium-2-mercaptobenzothiazol solution, see Mercaptobenzothiazol, sodium salt solution |  |  | 2492-26-4 |  | SMB.
Sodium methoxide (25% in methanol) | 0 | 1 | 124-41-4 | SMO
Sodium methylate 21-30% in methanol | 0 | 1, 2, 3 | 124-41-4 | SMT | SMS.
Sodium naphthalene sulfonate (alternately sulphonate) solution, see Naphthalene sulfonic (alternately sulphonic) acid (40% or less), sodium salt solution (40% or less) |  |  | 532-02-5 | SNS | NSA (NSB).
Sodium naphthenate solution, see Naphthenic acid, sodium salt solution |  |  | 61790-13-4 |  | NTS.
Sodium nitrite solution | 5 |  | 7632-00-0 | SNI | SNT.
Sodium N-methyl dithio carbamate solution, see Metam sodium solution |  |  | 137-42-8 | MSS | SMD.
Sodium petroleum sulfonate (alternately sulphonate) | 34 |  | 68608-26-4 | SPS
Sodium poly(4+)acrylate solution | 43 | 2 | 9003-04-7 | SOP | SOO.
Sodium polyacrylate solution | 43 | 2 | 9003-04-7 | SOO | SOP.
Sodium salt of Ferric hydroxyethylethylenediaminetriacetic acid solution, see Ferric hydroxyethylethylenediaminetriacetic acid, trisodium salt solution |  |  | 139-89-9 | STA | FHX.
Sodium silicate solution | 43 | 2 | 1344-09-8 | SSN | SSC.
Sodium sulfate (alternately sulphate) solution | 34 | 3 | 7757-82-5 | SST | SSO.
Sodium sulfide (alternately sulphide) solution (15% or less) | 43 |  | 1313-82-2 | SDR | SDS.
Sodium sulfide (alternately sulphide)/Hydrosulfide (alternately Hydrosulphide) solution (H2S 15 ppm or less) | 0 | 1, 2 |  | SSH | SDS/SHR/SSI/SSJ.
Sodium sulfide (alternately sulphide)/Hydrosulfide (alternately Hydrosulphide) solution (H2S greater than 15 ppm but less than 200 ppm) | 0 | 1, 2 |  | SSI | SDS/SHR/SSH/SSJ.
Sodium sulfide (alternately sulphide)/Hydrosulfide (alternately Hydrosulphide) solution (H2S greater than 200 ppm) | 0 | 1, 2 |  | SSJ | SDS/SHR/SSH/SSI.
Sodium sulfite (alternately sulphite) solution (25% or less) | 43 |  | 7757-83-7 | SUP | SSF/SUS.
Sodium tartrates/Sodium succinates solution | 43 |  |  | STM
Sodium thiocyanate solution (56% or less) | 0 | 1, 2 | 540-72-7 | STS | SCY.
Sorbitol solution | 20 |  | 50-70-4 | SBU | SBT.
Soyabean fatty acid methyl ester, see Oil, misc.: Soyabean fatty acid methyl ester |  |  | 67784-80-9 |  | OST.
Soyabean oil (epoxidized) | 34 |  | 8013-07-8 |  | OSC/EVO.
Soyabean oil, see Oil, edible: Soyabean |  | 2 | 8001-22-7 |  | OSB (VEO).
Stearic acid, see Fatty acids (saturated, C13+) |  |  | 57-11-4 | SRA | FAD (FAB/FAE/FDI/FDT).
Stearyl alcohol | 20 |  | 112-92-5 | SYL | ALY/ASY.
Stoddard solvent, see Naphtha: Stoddard solvent |  |  | 8032-32-4 |  | NSS.
Styrene monomer | 30 |  | 100-42-5 | STY
Sulfohydrocarbon (alternately Sulphohydrocarbon) (C3-C88) | 33 |  |  | SFO
Sulfohydrocarbon (alternately Sulphohydrocarbon), long-chain (C18+) alkylamine mixture | 7 |  |  | SFX
Sulfolane (alternately Sulpholane) | 39 |  | 126-33-0 | SFL
Sulfonated (alternately Sulphonated) polyacrylate solutions | 43 | 2 |  | SPA
Sulfur (alternately Sulphur) (molten) | 0 | 1, 2 | 7704-34-9 | SXX
Sulfur (alternately Sulphur) dioxide | 0 | 1 | 7446-09-5 | SFD
Sulfuric (alternately Sulphuric) acid | 2 | 2 | 7664-93-9 | SFA | SAC.
Sulfuric (alternately Sulphuric) acid, spent | 2 | 2 | 7664-93-9 | SAC | SFA.
Sulfurized (alternately Sulphurized) fat (C14-C20) | 33 |  |  | SFT
Sulfurized (alternately Sulphurized) polyolefinamide | 10 |  |  | SPY
Sulfurized (alternately Sulphurized) polyolefinamide alkene (C28-C250) amine | 33 |  |  | SPO
Sunflower seed oil, see Oil, edible: Sunflowerseed | 34 |  | 8001-21-6 |  | OSN (VEO).
Sym-trichlorobenzene, see 1,2,4-Trichlorobenzene. |  |  | 108-70-3
Tall oil, see Oil, misc.: Tall |  |  | 8002-26-4 |  | OTL (OTI/OTJ).
Tall oil, crude, see Oil, misc.: Tall, crude |  | 2, 3 | 8002-26-4 |  | OTI (OTJ/OTL).
Tall oil, distilled, see Oil, misc.: Tall, distilled |  | 3 | 8002-26-4 |  | OTJ (OTI/OTL).
Tall oil, fatty acid, see Oil, misc.: Tall fatty acid |  | 2 | 61790-12-3 |  | OTT.
Tall oil fatty acid (resin acids less than 20%), see Oil, misc.: Tall oil fatty acid (resin less than 20%) |  | 2 |  |  | OTK (OTT).
Tall oil fatty acid, barium salt | 0 | 1, 2 |  | TOB
Tall oil pitch, see Oil, misc.: Tall pitch |  | 3 | 08016-81-7 |  | OTP (OTI/OTJ/OTL).
Tall oil soap (crude) | 34 |  |  | TOR | TOS.
Tall oil soap (disproportionated) solution | 43 |  |  | TOS
Tallow | 34 | 2 | 61789-97-7 | TLO
Tallow alcohol, see Alcohols (C13+) |  | 2 | 67762-27-0 | TFA | ALY (ASY).
Tallow alkyl nitrile | 37 |  |  | TAN
Tallow fatty acid | 34 | 2 | 61790-37-2 | TFD
Tallow fatty alcohol, see Alcohols (C13+) |  | 2 | 67762-27-0 | TFA | ALY.
TAME, see tert-Amyl methyl ether |  |  | 994-05-8 |  | AYE.
Tertiary butylphenols | 21 |  | 128-39-2 | BLT | BTP.
Tetrachloroethane | 36 |  | 79-34-5 | TEC
1,1,2,2-Tetrachloroethane, see Tetrachloroethane | 36 |  | 79-34-5 | TEC | TEE.
Tetradecanol, see Alcohols (C13+) |  |  | 112-72-1 | TTN | ALY.
Tetradecene, see olefins or alpha-olefin entries |  |  | 1120-36-1 |  | OAM/OFY/OFW/OFZ/TDD.
Tetradecylbenzene, see Alkyl (C9+) benzenes |  |  | 1459-10-5 | TDB | AKB.
Tetraethyl silicate monomer/oligomer (20% in ethanol) | 0 | 1, 3 |  | TSM
Tetraethylene glycol | 40 |  | 112-60-7 | TTG
Tetraethylene glycol methyl ether, see Poly(2-8)alkylene glycol monoalkyl (C1-C6) ether |  |  | 23783-42-8 |  | PAG.
Tetraethylenepentamine | 7 | 2 | 112-57-2 | TTP
Tetrahydrofuran | 41 |  | 109-99-9 | THF
Tetrahydronaphthalene | 32 |  | 119-64-2 | THN
Tetramethylbenzene (all isomers) | 32 |  | 527-53-7 | TTC | TTB.
1,2,3,5-Tetramethylbenzene, see Tetramethylbenzene (all isomers) |  |  | 527-53-7 | TTB | TTC.
Tetrapropylbenzene, see Alkyl(C9+)benzenes |  |  |  |  | AKB.
Tetrasodium salt of ethylenediaminetetraacetic acid solution, see Ethylenediaminetetraacetic acid, tetrasodium salt solution |  |  | 13235-36-4 |  | EDS.
Titanium dioxide slurry | 43 |  | 13463-67-7 | TDS
Titanium tetrachloride | 2 |  | 7550-45-0 | TTT
Toluene | 32 | 2 | 108-88-3 | TOL
Toluene diisocyanate | 12 | 2 | 584-84-9 |  | TDI.
Toluenediamine | 9 |  | 95-80-7 | TDA
o-Toluidine | 9 | 2 | 95-53-4 | TLI | TOD/TOI.
Triarylphosphate, see Triisopropylated phenyl phosphates |  |  | 115-86-6 | TRA | TPL.
Tributyl phosphate | 34 |  | 126-73-8 | TBP
1,2,3-Trichlorobenzene (molten) | 36 | 3 | 120-82-1 | TBZ | TCB.
1,2,4-Trichlorobenzene | 36 |  | 120-82-1 | TCB | TBZ.
1,2,3-Trichlorobenzol, see 1,2,3-Trichlorobenzene (molten) |  |  | 87-61-6 | TBZ | TCB.
1,1,1-Trichloroethane | 36 | 2 | 71-55-6 | TCE | TCM.
1,1,2-Trichloroethane | 36 |  | 79-00-5 | TCM | TCE.
Trichloroethylene | 36 | 2 | 79-01-6 | TCL
1,1,2-Trichloro-1,2,2-trifluoroethane | 36 |  | 76-13-1 | TTF
Tricresyl phosphate (containing 1% or more ortho-isomer) | 34 | 3 | 78-30-8 (o isomer) | TCO | TCP/TCQ.
Tricresyl phosphate (containing less than 1% ortho-isomer) | 34 | 3 | 1330-78-5 | TCP | TCO/TCQ.
1,2,3-Trichloropropane | 36 | 2 | 96-18-4 | TCN
Tridecane (all isomers), see n-Alkanes (C10+) (all isomers) |  |  | 629-50-5 | TRD | ALV (ALJ).
Tridecanoic acid | 34 |  | 638-53-9 | TDO
Tridecanol, see Alcohols (C13+) |  |  | 112-70-9 | TDN | ALY (ASK/ASY/AYK/LAL).
Tridecene, see Olefins (C13+ all isomers) |  |  | 2437-56-1 | TRD | OAM/OFY/OFW/OFZ/TDC.
Tridecyl acetate | 34 |  | 1072-33-9 | TAE
Tridecylbenzene, see Alkyl (C9+) benzenes |  |  | 123-02-4 | TRB | AKB.
Triethanolamine | 8 | 2 | 102-71-6 | TEA
Triethylamine | 7 |  | 121-44-8 | TEN
Triethylbenzene | 32 |  | 102-25-0 (1,3,5) | TEB
Triethylene glycol | 40 |  | 112-27-6 | TEG
Triethylene glycol butyl ether, see Poly(2-8)alkylene glycol monoalkyl (C1-C6) ether |  |  | 143-22-6 | TBE | PAG.
Triethylene glycol butyl ether mixture | 40 |  | 143-22-6 | TBD
Triethylene glycol di-(2-ethylbutyrate) | 34 |  | 95-08-9 | TGD
Triethylene glycol dibenzoate | 34 |  | 120-56-9 | TGB
Triethylene glycol ether mixture | 40 |  | 112-35-6 | TYM
Triethylene glycol ethyl ether, see Poly(2-8)alkylene glycol monoalkyl (C1-C6) ether |  |  | 112-50-5 | TGE | PAG.
Triethylene glycol methyl ether, see Poly(2-8)alkylene glycol monoalkyl (C1-C6) ether |  |  | 112-35-6 | TGY | PAG.
Triethylenetetramine | 7 | 2 | 112-24-3 | TET
Triethyl phosphate | 34 |  | 78-40-0 | TPS
Triethyl phosphite | 34 | 2 | 122-52-1 | TPI
Triisobutylene | 30 |  | 7756-94-7 | TIB
Triisooctyl trimellitate | 34 |  | 27251-75-8 | TIS
Triisopropanolamine | 8 |  | 122-20-3 | TIP
Triisopropanolamine salt of 2,4-Dichlorophenoxyacetic acid solution, see 2,4-Dichlorophenoxyacetic acid, Triisopropanolamine salt solution |  |  |  |  | DTI.
Triisopropylated phenyl phosphates | 34 |  | 26967-76-0 | TPL
Trimethylacetic acid | 4 |  | 75-98-9 | TAA
Trimethylamine solution (30% or less) | 7 |  | 75-50-3 | TMT | TMA.
Trimethylbenzene (all isomers) | 32 |  | 95-63-6 (1,2,4) | TRE | TMB/TMD/TME.
Trimethyl nonanol, see Dodecyl alcohol |  |  | 112-53-8 |  | DDN (ASK/ASY/LAL).
Trimethylol propane polyethoxylated | 20 |  | 50586-59-9 | TPR
Trimethyl phosphite | 34 | 2 | 121-45-9 | TPP
Trimethylhexamethylene diisocyanate (2,2,4- and 2,4,4-) | 12 |  | 28679-16-5 | THI
Trimethylhexamethylenediamine (2,2,4- and 2,4,4-) | 7 |  | 25513-64-8 | THA
2,2,4-Trimethyl-1,3-pentanediol diisobutyrate | 34 |  | 6846-50-0 | TMQ
2,2,4-Trimethyl-1,3-pentanediol-1-isobutyrate | 34 |  | 18491-15-1 | TMP
2,2,4-Trimethyl-3-pentanol-1-isobutyrate | 34 |  |  | TMR
1,3,5-Trioxane | 41 | 2 | 110-88-3 | TRO
Triphenylborane (10% or less)/Caustic soda solution | 5 |  | 960-71-4 | TPB
Tripropylene, see Propylene trimer |  |  | 13987-01-4 |  | PTR.
Tripropylene glycol | 40 |  | 24800-44-0 | TGC
Tripropylene glycol methyl ether, see Poly(2-8)alkylene glycol monoalkyl(C1-C6) ether |  |  | 25498-49-1 | TGM | PAG.
Trisodium nitrilotriacetate solution, see Nitrilotriacetic acid, trisodium salt solution |  |  | 5064-31-3 | TSO | NCA (TSN).
Trisodium phosphate solution | 5 |  | 10101-89-0 | TSP
Trisodium salt of N-(Hydroxyethyl)ethylenediaminetriacetic acid solution, see N-(Hydroxyethyl)ethylenediaminetriacetic acid, trisodium salt solution |  |  | 207386-87-6 |  | HET.
Trixylyl phosphate | 34 |  | 25155-23-1 |  | TRP.
Trixylenyl phosphate, see Trixylyl phosphate |  |  | 25155-23-1 |  | TRP.
Tung oil, see Oil, misc.: Tung |  |  | 8001-20-5 |  | OTG.
Turpentine | 30 |  | 9005-90-7 | TPT
Turpentine substitute, see White spirit (low (15-20%) aromatic) |  |  | 8052-41-13 |  | WSL (WSP).
Undecane (all isomers), see Alkanes (C10+) (all isomers) |  |  | 1120-21-4 | UDN | ALV (ALJ).
Undecanoic acid | 4 |  | 112-37-8 | UDA
Undecanol, see Undecyl alcohol |  |  | 112-42-5 |  | UND (ALR).
Undecene | 30 |  | 1120-21-4 | UDD | UDC.
1-Undecene | 30 |  | 821-95-4 | UDC | UDD.
Undecyl alcohol | 20 |  | 112-42-5 | UND | ALR.
Undecylbenzene, see Alkyl (C9+) benzenes |  |  | 67774-74-7 | UDB | AKB.
Urea solution | 43 |  | 57-13-6 | USL | URE.
Urea, Ammonium mono- and di-hydrogen phosphate/Potassium chloride solution | 0 | 1 |  | UPX
Urea/Ammonium nitrate solution (containing less than 1% free Ammonia) | 43 | 2 |  | UAU | ANU/UAS/UAT/UAV.
Urea/Ammonium nitrate solution (containing 1% or more free Ammonia) | 6 |  |  | UAT | ANU/UAS.
Urea/Ammonium phosphate solution | 43 |  |  | UAP .
Vacuum gas oil, see oil misc.: Vacuum gas oil | 33 |  | 64741-57-7 | OVC
Valeraldehyde (all isomers) | 19 |  | 110-62-3 | VAK | IVA/VAL.
Vanillin black liquor (free alkali content 3% or more) | 5 |  | 68514-06-7 | VBL
Vegetable acid oils, n.o.s. | 34 |  |  | VAD
Including:
Corn acid oil | 34 |  | 68308-50-9
Cottonseed acid oil | 34 |  | 68308-51-0
Dark mixed acid oil | 34
Groundnut acid oil | 34
Mixed acid oil | 34
Mixed general acid oil | 34
Mixed hard acid oil | 34
Mixed soft acid oil | 34
Rapeseed acid oil | 34 |  | 112-86-7
Safflower acid oil | 34
Soya acid oil | 34 |  | 68308-53-2
Sunflower seed acid oil | 34 |  | 84625-38-7
Vegetable oil mixtures, containing less than 15% free fatty acid (m) | 34 |  |  | VEO
Vegetable fatty acid distillates, n.o.s. | 34 | 3 |  | VFD
Including:
Palm kernel fatty acid distillate | 34 |  | 67701-05-7
Palm oil fatty acid distillate | 34 |  | 68440-15-3
Tall fatty acid distillate | 34 |  | 61790-12-3
Tall oil fatty acid distillate | 34 |  | 61790-12-3
Vegetable oils, n.o.s. | 34 |  |  | VEO
Including:
Beechnut oil | 34
Camelina oil | 34 |  | 68956-68-3
Cashew nut shell | 34 |  | 8007-24-7
Castor oil | 34 |  | 8001-79-4
Cocoa butter | 34 |  | 8002-31-1
Coconut oil | 34 | 2 | 8001-31-8
Corn oil | 34 |  | 8001-30-7
Cottonseed oil | 34 |  | 801-29-4
Croton oil | 34 |  | 8001-28-3
Grape seed oil | 34 |  | 8024-22-4
Groundnut acid oil | 34
Hazelnut oil | 34 |  | 84012-21-5
Illipe oil | 34 |  | 91770-65-9
Jatropha oil | 34 |  | 88-6-7 | JTO
Linseed oil | 34 |  | 8001-26-1
Mango kernel oil | 34 |  | 90063-86-8
Nutmeg butter | 34 |  | 8008-45-5
Oiticica oil | 34 |  | 8016-35-1
Olive oil | 34 |  | 8001-25-0
Palm kernel oil | 34 |  | 8023-79-8
Palm kernel olein | 34 |  | 93334-39-5
Palm kernel stearin | 34
Palm mid fraction | 34 |  | 91079-14-0
Palm, non-edible industrial grade | 34 |  | 8002-75-3
Palm oil | 34 | 2, 3 | 8002-75-3
Palm olein | 34 |  | 93334-39-5
Palm stearin | 34 |  | 91079-14-0
Peanut oil | 34 |  | 8002-03-7
Peel oil (oranges and lemons) | 34 |  | 8008-56-8
Perilla oil | 34 |  | 68132-21-8
Pine oil | 34 |  | 8002-09-3
Poppy seed oil | 34 |  | 8002-11-7
Poppy oil | 34
Raisin seed oil | 34 |  | 8024-22-4
Rapeseed oil | 34 |  | 8002-13-9
Rapeseed (low erucic acid containing less than 4% free fatty acids) | 34 | 3
Resin oil, distilled | 30 | 3
Rice bran oil | 34 |  | 68553-81-1
Rosin oil | 34 |  | 8002-16-2
Safflower oil | 34 |  | 8001-23-8
Salad oil | 34 |  | 68956-68-3
Sesame oil | 34 |  | 8008-74-0
Shea butter | 34 |  | 194043-92-0
Soyabean oil | 34 | 2 | 8001-22-7
Sunflower seed oil | 34 |  | 8001-21-6
Tall | 34 |  | 8002-26-4
Tall, crude | 34 |  | 8002-26-4
Tall, distilled | 34 |  | 8002-26-4
Tall, pitch | 34 |  | 8016-81-7
Tucum oil | 34 |  | 98143-57-8
Tung oil | 34 |  | 8001-20-5
Walnut oil | 34 |  | 8024-09-7
Vegetable protein solution (hydrolyzed) | 43 |  | 100209-45-8 | VPS
Vinyl acetate | 13 | 2 | 108-05-4 | VAM
Vinyl chloride | 35 |  | 75-01-4 | VCM
Vinyl ethyl ether | 13 |  | 109-92-2 | VEE
Vinylidene chloride | 35 |  | 75-35-4 | VCI
Vinyl neodecanoate | 13 | 2 | 51000-52-3 | VND
Vinyltoluene | 13 |  | 25013-15-4 | VNT
Water | 43 |  | 7732-18-5 | WTR
Waxes |  |  |  | WAX
Including:
Candelilla | 34 |  | 8006-44-8 | WCD
Carnauba | 34 |  | 8015-86-9 | WCA
Hydrocarbon | 31 |  |  | WHC | WPF.
Paraffin | 31 |  | 8002-74-2 | WPF
Petroleum | 33 |  |  | WPT
White spirit, see White spirit (low (15-20%) aromatic) |  |  | 8052-41-13 | WSP | WSL.
White spirit (low (15-20%) aromatic) | 33 |  | 8052-41-3 | WSL | WSP.
Wine, see Alcoholic beverages |  |  | 64-17-5 | ABV
Wood lignin with Sodium acetate/oxalate | 0 | 1, 3 |  | WOL
Xylenes | 32 | 2 | 106-42-3 | XLX | XLM/XLO/XLP.
Xylenes/Ethylbenzene (10% or more) mixture | 32 |  |  | XEB
Xylenols | 21 |  | 105-67-9 | XYL
Zinc alkaryl dithiophosphate (C7-C16) | 34 |  |  | ZAD
Zinc alkenyl carboxamide | 10 |  |  | ZAA | WSL.
Zinc alkyl dithiophosphate (C3-C14) | 34 |  | 688649-42-3 | ZAP
Zinc bromide/Calcium bromide solution, see Drilling brine (containing Zinc salts) |  |  | 7699-45-8 |  | DZB.
Notes:
1. Because of very high reactivity, unusual conditions of carriage, or potential compatibility problems, this commodity is not assigned to a specific group in Figure 1 to 46 CFR part 150 (Compatibility Chart).
2. See Appendix I to 46 CFR part 150 (Exceptions to the Chart).
3. Entry was added from the March 2012 Annex to the 2007 edition of the IBC Code (MEPC 63/23/Add.1), the December 2012 IMO Marine Environmental Protection Committee Circular (MEPC.2/Circ.18), or the December 2013 IMO Marine Environmental Protection Committee Circular (MEPC.2/Circ.19).
4. Italicized words are not part of the cargo name but may be used in addition to the cargo name.
5. CAS numbers marked with an asterisk (*) represent the CAS number of the lowest member in the homologous series.

5. Amend Table 2 to part 150 as follows:

a. Under Group 0, after the entry for “n-Octyl Mercaptan”, add, in alphanumeric order, the entries, “Offshore contaminated bulk liquid P” and “Offshore contaminated bulk liquid S”;

b. Under Group 4, after the entry for “Dimethyl octanoic acid”, add, in alphanumeric order, the entries, “Fish protein concentrate (containing 4% or less formic acid)” and “Fish silage protein concentrate (containing 4% or less formic acid)”;

c. Under Group 7, remove the entry for “Poly olefin amine”

d. Under Group 9, after the entry for “2-Ethyl-6-methyl-N-(1′-methyl-2-methoxyethyl)aniline”, add, in alphanumeric order, the entries, “1,3,5-Hexahydrotriethanol-1,3,5-triazine solution” and “Hexahydro-1,3,5-trimethyl-1,3,5-triazine solution (45% or less)”;

e. Under Group 20:

i. After the entry for “Alcohol (C6‐C17) (secondary) poly (3‐6) ethoxylates” add an entry for “Alcohol (C10‐C18) poly (7) ethoxylates”;

ii. After the entry for “Alcohols (C13+)”, add an entry for “Alkyl/cyclo (C4‐C5) alcohols”;

iii. After the entry for “Dodecyl alcohol (all isomers)”, add an entry for “n-Dodecyl mercaptan”; and

iv. After the entry for “Ethylene glycol.¹”, add, in alphanumeric order, the entries, “Ethylene glycol (>75%)/Sodium alkyl carboxylates/borax mixture” and “Ethylene glycol (>85%)/Sodium alkyl carboxylates mixture”;

f. Under Group 21:

i. After the entry “Alkylated (C4‐C9) hindered phenols”, add an entry for “Alkylphenols (C10‐C18, C12 rich)”;

ii. After the entry for “Cresols (all isomers)” add an entry for “Cresol/Phenol/Xylenol mixture”; and

iii. After the entry for “Long-chain alkylphenate/Phenol sulfide (alternately sulphide) mixture”, add, in alphanumeric order, the entries, “Long-chain alkylphenol (C14‐C18)” and “Long-chain alkylphenol (C18‐C30)”;

g. Under Group 30, after the entry for “Dodecene (all isomers)”, add an entry for “1-Dodecene”;

h. Under Group 31, after the entry for “Heptadecane (all isomers)”, add an entry for “Hydrocarbon wax”;

i. Under Group 32:

i. After the entry for “Alkyl (C5‐C8) benzenes”, add an entry for “Alkylbenzenes mixtures (containing naphthalene)”; and

ii. After the entry for “Hexylbenzenes”, add an entry for “Naphthalene crude (molten)”;

j. Under Group 34:

i. After the entry for “Cod liver oil”, add, in alphanumeric order, the entries, “Cyclohexane-1,2-dicarboxylic acid,diisononyl ester” and “2,6-Diaminohexanoic acid phosphonate mixed salts solution”;

ii. Under the entry, “Oil, misc.:”, add, in alphanumeric order, the subentries, “Used cooking oil” and “Used cooking oil (triglycerides, C16‐C18 and C18 unsaturated)”;

iii. After the entry for “Phosphate esters”, add an entry for “[[(Phosphonomethyl)imino]bis[ethylenenitrilobis(methylene)]]tetrakisphosphonic acid, ammonium salt solution (60% or less)”; and

iv. Under the entry for “Vegetable acid oils, n.o.s.”, add, in alphanumeric order, a subentry for “Vegetable oil mixtures, containing less than 15% free fatty acid (m)”;

k. Under Group 40:

i. After the entry for ”Alkyl (C9‐C15) phenyl propoxylate”, add an entry for “Alkyl (C10‐C15, C12 rich) phenol poly (4‐12)ethoxylate”;

ii. Remove the entry for “Diethylene glycol n-hexyl ethe” and add, in its place, an entry for “Diethylene glycol n-hexyl ether”;

iii. Remove the entry for “Glucitol/glycerol blend propoxylated (containing less than 10% amines)” and add, in its place, an entry for “Glucitol/Glycerol blend propoxylated (containing less than 10% amines)”; and

iv. After the entry for: “Glucitol/Glycerol blend propoxylated (containing less than 10% amines)”, add an entry for “Glucitol/Glycerol blend propoxylated (containing 10% or more amines)”;

l. Under Group 41, after the entry for “Alkaryl polyethers (C9‐C20)”, add an entry for “tert-Amyl ethyl ether”; and

m. Under Group 43:

i. After the entry for “Corn syrup”, add an entry for “Cyclohexane oxidation products, sodium salts solution”, and;

ii. Remove the entry for “N-Methylglucamine solution (70% or less)”.

The additions read as follows:

Table 2 to Part 150—Grouping of Cargoes
Group | Cargo
0. Unassigned Cargoes:
* * * * * * *
| Offshore contaminated bulk liquid P.
| Offshore contaminated bulk liquid S.
* * * * * * *
4. Organic Acids:
* * * * * * *
| Fish protein concentrate (containing 4% or less formic acid).
| Fish silage protein concentrate (containing 4% or less formic acid).
* * * * * * *
9. Aromatic Amines:
* * * * * * *
| 1,3,5-Hexahydrotriethanol-1,3,5-triazine solution.
| Hexahydro-1,3,5-trimethyl-1,3,5-triazine solution (45% or less).
* * * * * * *
20. Alcohols, Glycols:
* * * * * * *
| Alcohol (C10‐C18) poly (7) ethoxylates.
* * * * * * *
| Alkyl/cyclo (C4‐C5) alcohols.
* * * * * * *
| n-Dodecyl mercaptan.
* * * * * * *
| Ethylene glycol (>75%)/Sodium alkyl carboxylates/borax mixture.
| Ethylene glycol (>85%)/Sodium alkyl carboxylates mixture.
* * * * * * *
21. Phenols, Cresols:
* * * * * * *
| Alkylphenols (C10‐C18, C12 rich).
* * * * * * *
| Cresol/Phenol/Xylenol mixture.
* * * * * * *
| Long-chain alkylphenol (C14‐C18).
| Long-chain alkylphenol (C18‐C30).
* * * * * * *
30. Olefins:
* * * * * * *
| 1-Dodecene.
31. Paraffins:
* * * * * * *
| Hydrocarbon wax.
* * * * * * *
32. Aromatic Hydrocarbons:
* * * * * * *
| Alkylbenzenes mixtures (containing naphthalene).
* * * * * * *
| Naphthalene crude (molten).
* * * * * * *
34. Esters:
* * * * * * *
| Cyclohexane-1,2-dicarboxylic acid,diisononyl ester.
| 2,6-Diaminohexanoic acid phosphonate mixed salts solution.
* * * * * * *
| Oils, misc:
* * * * * * *
| Used cooking oil.
| Used cooking oil (triglycerides, C16‐C18 and C18 unsaturated).
* * * * * * *
| [[(Phosphonomethyl)imino]bis[ethylenenitrilobis(methylene)]]tetrakisphosphonic acid, ammonium salt solution (60% or less).
* * * * * * *
| Vegetable acid oils, n.o.s.:
* * * * * * *
| Vegetable oil mixtures, containing less than 15% free fatty acid (m).
* * * * * * *
40. Glycol Ethers:
* * * * * * *
| Alkyl (C10‐C15, C12 rich) phenol poly (4‐12)ethoxylate.
* * * * * * *
| Diethylene glycol n-hexyl ether.
* * * * * * *
| Glucitol/Glycerol blend propoxylated (containing less than 10% amines).
| Glucitol/Glycerol blend propoxylated (containing 10% or more amines).
* * * * * * *
41. Ethers:
* * * * * * *
| tert-Amyl ethyl ether.
* * * * * * *
43. Miscellaneous Water Solutions:
* * * * * * *
| Cyclohexane oxidation products, sodium salts solution.
* * * * * * *

* * * * *

6: Amend Appendix I to part 150 as follows:

a. In the table in paragraph (a):

i. In the “Member of reactive group” column, after the entry for “Caustic soda 50% or less (5)”, add an entry for “2,4, D Dimethyl amine salt (DMA 806) (0)”, and, to the “Compatible with” column, add the entries, in alphanumeric order, “Acetone (18)”, “Ethyl Acrylate (14)”, “Methyl Alcohol (20)”, and “Toluene (32)”;

ii. In the “Member of reactive group” column, remove the entry for “Dimethyl disulfide (alternately disulfide) (0)” and replace it with an entry for “Dimethyl disulfide (alternately disulphide) (0)”;

iii. In the “Member of reactive group” column, after the entry for “tert-Dodecanethiol (20)”, add the entry for “tert-Dodecanethiol (Sulfole 120) (0)”, and, in the “Compatible with” column, add the entries, in alphanumeric order, “Acetone (18)”, “Ethyl Acrylate (14)”, “Methyl Alcohol (20)”, “Polymeric methylene diphenyl diisocyanate (Papi 27) (12)”, and “Toluene (32)”;

iv. In the “Member of reactive group” column, after the new entry for “tert-Dodecanethiol (Sulfole 120) (0)”, add an entry for “tert-Dodecanethiol (0)”, and, in the “Compatible with” column, add the entries, in alphanumeric order, “All Chemicals in Group 33” and “Acetone (18)”;

v. In the “Member of reactive group” column, after the new entry for “tert-Dodecanethiol (0)”, add an entry for “n-Dodecyl mercaptan (0)”, and, in the “Compatible with” column, add an entry, in alphanumeric order, for “All chemicals in Group 33”;

vi. In the “Member of reactive group” column, after the entry for “Ethylenediamine (7)”, add an entry for “Hexamethylenediamine (7)”, and, in the “Compatible with” column, add, in alphanumeric order, an entry for “Ethyl Alcohol (Ethanol) (20)”;

vii. In the “Member of reactive group” column, after the new entry for “Hexamethylenediamine (7)”, add an entry for “Hexamethylenediamine (molten) (HMD 98%, molten) (7)”, and in the “Compatible with” column add the entries, in alphanumeric order, “N-Butyl Alcohol (20)”, “Isobutyl Alcohol (20)”, and “Isopropyl Alcohol (20)”;

viii. In the “Member of reactive group” column, after the new entry for “Hexamethylenediamine (molten) (HMD 98%, molten) (7)”, add an entry for “Hexamethylenediamine solution (7)”, and, in the “Compatible with” column, add an entry for “CepSinol ™ 1216 (Alcohols (C12+), primary, linear) (20)”;

ix. In the “Member of reactive group” column, after the new entry for “Hexamethylenediamine solution (7)”, add an entry for “Hexamethylenediamine solution (HMD 90%) (7)”, and, in the “Compatible with” column, add, in alphanumeric order, the entries, “N-Butyl Alcohol (20)”, “Isobutyl Alcohol (20)”, and “Isopropyl Alcohol (20)”;

x. In the “Member of reactive group” column, after the entry for “Oleum (0)”, add an entry for “Phenol (90% hydrated) (21)”, and, in the “Compatible with” column, add an entry for “Toluene diisocyante (12)”;

xi. In the “Member of reactive group” column, after the entry for “Sodium dichromate solution (70% or less) (0)”, add an entry for “Sodium Hydrosulfide (alternatively Hydrosulphide) Solution (5)”, and, in the “Compatible with” column, add an entry for “Ethyl Alcohol (Ethanol) (20)”;

xii. In the “Member of reactive group” column, after the entry for “Sodium Methylate 21-30% in methanol (0)”, add an entry for “Sodium Methylate, 30% solution in Methanol (0)”, and, in the “Compatible with” column, add, in alphanumeric order, the following entries:

A. n-Butyl Alcohol (20);

B. Decene (30);

C. Decyl Alcohol (20);

D. Dialkyl (C9‐C10) phthalates (34);

E. Dichloromethane (36);

F. Ethanolamine (8) (including Monoethanolamine);

G. Hexene (all isomers) (30);

H. Methyl Isobutyl Ketone (18);

I. Olefin mixtures (C5‐C15) (30);

J. Olefins (C13+ all isomers) (30);

K. Phenol (21);

L. n-Propyl Alcohol (20);

M. Propylheptanol (20);

N. C9-Resinfeed (32);

O. Sodium Borohydride (15% or less)/Sodium hydroxide solution (5);

P. Solvent Naphtha (33);

Q. Styrene Monomer (30);

R. Toluene (32); and

S. Xylenes (Incl. m-Xylene) (32); and

xiii. In the “Member of reactive group” column, after the entry for “Sulfuric (alternatively Sulphuric) acid, 98% or less(2)”, add the entry for “Sulfuric (alternatively Sulphuric) Acid (95-98%) (2)”, and, in the the “Compatible with” column, add the entries, “Methyl Ester Fatty Acid (34)” and “Soybean Oil (34)”.

b. Amend paragraph (b) by adding, in alphabetical order, an entry for “Tolune diisocyanate (TDI) (12)”.

The additions read as follows:

Appendix I to Part 150—Exceptions to the Chart

(a) * * *

Member of reactive group | Compatible with
* * * * * * *
2,4, D Dimethyl amine salt (DMA 806) (0) | Acetone (18).
| Ethyl Acrylate (14).
| Methyl Alcohol (20).
| Toluene (32).
* * * * * * *
tert-Dodecanethiol (Sulfole 120) (0) | Acetone (18).
| Ethyl Acrylate (14).
| Methyl Alcohol (20).
| Polymeric methylene diphenyl diisocyanate (Papi 27) (12).
| Toluene (32).
tert-Dodecanethiol (0) | All Chemicals in Group 33.
tert-Dodecanethiol (0) | Acetone (18).
* * * * * * *
Hexamethylenediamine (7) | Ethyl Alcohol (Ethanol) (20).
Hexamethylenediamine (molten) (HMD 98%, molten) (7) | n-Butyl Alcohol (20). Isobutyl Alcohol (20). Isopropyl Alcohol (20).
Hexamethylenediamine solution (7) | CepSinol ™ 1216 (Alcohols (C12+), primary, linear) (20).
Hexamethylenediamine solution (HMD 90%) (7) | n-Butyl Alcohol (20).
| Isobutyl Alcohol (20).
| Isopropyl Alcohol (20).
* * * * * * *
Phenol (90% hydrated) (21) | Toluene diisocyante (12).
* * * * * * *
Sodium hydrosulfide(alternatively Hydrosulphide) Solution (5) | Ethyl Alcohol (Ethanol) (20).
* * * * * * *
Sodium Methylate, 30% solution in Methanol (0) | n-Butyl Alcohol (20). Decene (30). Decyl Alcohol (20). Dialkyl (C9‐C10) phthalates (34). Dichloromethane (36). Ethanolamine (8)(including Monoethanolamine). Hexene (all isomers) (30). Methyl Isobutyl Ketone (18). Olefin mixtures (C5‐C15) (30). Olefins (C13+ all isomers) (30). Phenol (21). n-Propyl Alcohol (20). Propylheptanol (20). C9-Resinfeed (32). Sodium Borohydride (15% or less)/Sodium hydroxide solution (5). Solvent Naphtha (33). Styrene Monomer (30). Toluene (32). Xylenes (Incl. m-Xylene) (32).
* * * * * * *
Sulfuric (alternatively Sulphuric) Acid (95-98%) (Group 2) | Methyl Ester Fatty Acid (34).
| Soybean Oil (34).
* * * * * * *

(b) * * *

* * * * *

Tolune diisocyanate (TDI) (12) is not compatible with Alkylbenzene sulphonic acid, sodium salt solution (Group 33), Calcium nitrate solutions (50% or less) (Group 34), Calcium nitrate/Magnesium nitrate/Potassium chloride solution (Group 34), Formaldehyde solutions (45% or less) (Group 19), Glutaraldehyde solutions (50% or less) (Group 19), Lactonitrile solution (80% or less) (Group 37), Nitrilotriacetic acid, trisodium salt solution (Group 34), Sodium acetate solutions (Group 34), Sodium sulphate solutions (Group 34), Polyferric sulphate solution (Group 34).

* * * * *

Dated: August 25, 2022.
W.R. Arguin,
Rear Admiral, U.S. Coast Guard, Assistant Commandant for Prevention Policy.

[FR Doc. 2022-18798 Filed 9-21-22; 8:45 am]

BILLING CODE 9110-04-P